DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated her responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Due to an administrative delay, set forth below is a list of petitions received by HRSA on October 1, 2008 through December 31, 2008 and April 1, 2009 through March 13, 2013. This list provides the name of petitioner, city and state of vaccination (if unknown then city and state of person or attorney filing claim), and case number. In cases where the Court has redacted the name of a petitioner or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading FOR FURTHER INFORMATION CONTACT), with a copy to HRSA addressed to Director, Division of Vaccine Injury Compensation Program, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: May 6, 2013.
Mary K. Wakefield,
Administrator.

List of Petitions Filed

1. Teri and Jesse Taylor on behalf of Jacob Lee Taylor, Garden City, New York, Court of Federal Claims No: 08-0698V.

2. Tawnya Mason on behalf of Taylor Mason, Kansas City, Missouri, Court of Federal Claims No: 08-0699V.

3. Lorine Johnson on behalf of Aidan Johnson, Reno, Nevada, Court of Federal Claims No: 08-0701V.

4. Linda Valdez on behalf of Kaitlynn Valdez, Austin, Texas, Court of Federal Claims No: 08-0702V.

5. Kristie Tauer, Sleepy Eye, Minnesota, Court of Federal Claims No: 08-0703V.

6. Misty Thompson on behalf of Isaiah Thompson, Louisville, Kentucky, Court of Federal Claims No: 08-0704V.

7. Jacklyn Brownell, Syracuse, New York, Court of Federal Claims No: 08-0705V.

8. Joann and Jay Clemmons on behalf of Christopher Clemmons, Covington, Kentucky, Court of Federal Claims No: 08-0706V.

9. Coleen Clark on behalf of Ryan Clark, Williamsville, New York, Court of Federal Claims No: 08-0707V.

10. Lisa and Tom Driscoll, Maplewood, New Jersey, Court of Federal Claims No: 08-0712V.

11. William Bond, Aberdeen, Maryland, Court of Federal Claims No: 08-0713V.

12. Joyce and Greg Wiatt on behalf of Emily Wiatt, Prescott, Arizona, Court of Federal Claims No: 08-0714V.

13. Rosanne Funk, Juneau, Alaska, Court of Federal Claims No: 08-0715V.

14. Kerrie and James W. Lloyd on behalf of James Lloyd, Irvine, California, Court of Federal Claims No: 08-0716V.

15. Ann Dalsin and Gary Mintz on behalf of Declan Mintz, Walnut Creek, California, Court of Federal Claims No: 08-0719V.

16. Alysia and David Peddy on behalf of David Pierce Peddy, Lakeland, Florida, Court of Federal Claims No: 08-0720V.

17. Patricia Davis, Haleiwa, Hawaii, Court of Federal Claims No: 08-0722V.

18. Lisa Marks-Smith, Cincinnati, Ohio, Court of Federal Claims No: 08-0723V.

19. Ida Mosley, Sebring, Florida, Court of Federal Claims No: 08-0724V.

20. Susan and Greg Walczyk on behalf of Nolan Anthony Walczyk, Orchard Park, New York, Court of Federal Claims No: 08-0725V.

21. Ella and James Hall on behalf of Gabriel Hall, Sebring, Florida, Court of Federal Claims No: 08-0727V.

22. Wilber Raymond on behalf of David Raymond, Arlington, Texas, Court of Federal Claims No: 08-0728V.

23. Nichole Shook and Odlin Odige, Sr. on behalf of Odlin Odige, Jr., Deceased, Tampa, Florida, Court of Federal Claims No: 08-0732V.

24. Nadezhda Petrovna Schwartz on behalf of David Michael Schwartz, Canton, Illinois, Court of Federal Claims No: 08-0733V.

25. Donna J. Bumbalough, Oliver Springs, Tennessee, Court of Federal Claims No: 08-0735V.

26. Brian McIntosh, New York, New York, Court of Federal Claims No: 08-0736V.

27. Myron B. Goldstein on Behalf of Gordon K. Rosenberg, Deceased, Lincolnwood, Illinois, Court of Federal Claims No: 08-0739V.

28. David Glover, Charlotte, North Carolina, Court of Federal Claims No: 08-0740V.

29. Aimee Pellegran, Riverview, Florida, Court of Federal Claims No: 08-0741V.

30. Richard Williams-O'Banion, Boston, Massachusetts, Court of Federal Claims No: 08-0743V.

31. Sandra Stinson, Benson, Arizona, Court of Federal Claims No: 08-0744V.

32. Kara McLaughlin, Austin, Texas, Court of Federal Claims No: 08-0747V.

33. Charlene Y. Vaughn, Pasadena, California, Court of Federal Claims No: 08-0748V.

34. Enjoli Graves on behalf of Emma Olivia Graves, Alexandria, Louisiana, Court of Federal Claims No: 08-0750V.

35. Patricia Dandurand, West Springfield, Massachusetts, Court of Federal Claims No: 08-0751V.

36. Jane Doe/83, Stony Brook, New York, Court of Federal Claims No: 08-0753V.

37. Mariah and Lewis Sauls on behalf of Kaden Sauls, Brooklyn, New York, Court of Federal Claims No: 08-0755V.

38. Christal Scott on behalf of Tristan Fronterhouse, Irving, Texas, Court of Federal Claims No: 08-0756V.

39. Petra Murry on behalf of Tyler Paige Lacy, Bayside, California, Court of Federal Claims No: 08-0759V.

40. James and Barbara Majeski on behalf of Maxwell Augustus Majeski, Princeton, New Jersey, Court of Federal Claims No: 08-0760V.

41. John B. Barrett, Wichita, Kansas, Court of Federal Claims No: 08-0761V.

42. Wendy N. Strand on behalf of Amaya Rebecca Covin, Brick, New Jersey, Court of Federal Claims No: 08-0763V.

43. Rechelle Decker on behalf of Kyah Decker, Wysox, Pennsylvania, Court of Federal Claims No: 08-0764V.

44. Melissa and Daniel Dalgety on behalf of Robert Dalgety, East Syracuse, New York, Court of Federal Claims No: 08-0765V.

45. Betty and Dan Blaha on Behalf of Aidan Blaha, Cleveland, Ohio, Court of Federal Claims No: 08-0766V.

46. Margaret and Scott Heit on behalf of Ryan Heit, Philadelphia, Pennsylvania, Court of Federal Claims No: 08-0772V.

47. Patrick Sherritt, Logan, Ohio, Court of Federal Claims No: 08-0773V.

48. Betty and Dan Blaha on behalf of Zachary Blaha, Cleveland, Ohio, Court of Federal Claims No: 08-0774V.

49. William Hobbs, Bay Pines, Florida, Court of Federal Claims No: 08-0775V.

50. Dennis Harborth, New Braunfels, Texas, Court of Federal Claims No: 08-0777V.

51. Mr. and Mrs. Charley Jacobs on behalf of Makai Alexander Jacobs, Richmond, Virginia, Court of Federal Claims No: 08-0780V.

52. Melissa D. Parsley on behalf of Corey Parsley, Prestonsburg, Kentucky, Court of Federal Claims No: 08-0781V.

53. Lyn McMahon, Shawnee Mission, Kansas, Court of Federal Claims No: 08-0785V.

54. John Gerard, Muskegon, Michigan, Court of Federal Claims No: 08-0786V.

55. Nancy Ferguson, Marion, Indiana, Court of Federal Claims No: 08-0789V.

56. Suzanne and Michael A. LeBrun on behalf of Alexander J. LeBrun, Laguna Niguel, California, Court of Federal Claims No: 08-0790V.

57. Kimberly and Brian Long on behalf of Brennan Connor Long, Louisville, Kentucky, Court of Federal Claims No: 08-0792V.

58. Margaret and Douglas Colafella on behalf of Jack D. Colafella, Pittsburgh, Pennsylvania, Court of Federal Claims No: 08-0793V.

59. Melissa B. and Bryan K. Wood on behalf of Mathew William Wood, Keller, Texas, Court of Federal Claims No: 08-0794V.

60. Becky Edwards, Grand Rapids, Minnesota, Court of Federal Claims No: 08-0796V.

61. Augustus Motta, Norristown, Pennsylvania, Court of Federal Claims No: 08-0797V.

62. David P. Welsh, Atlantic City, New Jersey, Court of Federal Claims No: 08-0798V.

63. Rebecca Crosby on behalf of Ethan Crosby, Pullman, Washington, Court of Federal Claims No: 08-0799V.

64. David Panzirer on behalf of Morgan Panzirer, Mount Kisco, New York, Court of Federal Claims No: 08-0800V.

65. Tracy Rose on behalf of Carter Rose, Collinsville, Illinois, Court of Federal Claims No: 08-0801V.

66. Amy McKenzie on behalf of Grant McKenzie, Clinton TWP, Michigan, Court of Federal Claims No: 08-0803V.

67. Lauren Lynch, LVN, Weatherford, Texas, Court of Federal Claims No: 08-0805V.

68. Lisa Flynn on behalf of Brock Flynn, Mokena, Illinois, Court of Federal Claims No: 08-0807V.

69. Carlette and Andre Lesure on behalf of Demetrius Lesure, Lawrenceville, Georgia, Court of Federal Claims No: 08-0809V.

70. Sanford Betz, Lakeland, Florida, Court of Federal Claims No: 08-0810V.

71. Cynthia Brownell, Amsterdam, New York, Court of Federal Claims No: 08-0814V.

72. Stuart Prindle, Salisbury, Connecticut, Court of Federal Claims No: 08-0815V.

73. Viletta and Richard Coombs on behalf of Richard Wayne Coombs, III Tallahassee, Florida, Court of Federal Claims No: 08-0818V.

74. Jessica Mura, Savannah, Georgia, Court of Federal Claims No: 08-0819V.

75. Alp Can and June Sayali on behalf of Matthew Can, Union City, New Jersey, Court of Federal Claims No: 08-0823V.

76. David Roca, Fremont, Ohio, Court of Federal Claims No: 08-0824V.

77. David Joseph Fey, Twentynine Palms, California, Court of Federal Claims No: 08-0828V.

78. Neda Abdelhamid on behalf of Hatem F. Abdeljaber, Loma Linda, California, Court of Federal Claims No: 08-0829V.

79. Janet Leger, Irvine, California, Court of Federal Claims No: 08-0831V.

80. Nancy L. Ellis, Owensboro, Kentucky, Court of Federal Claims No: 08-0833V.

81. Tamara Capriola on behalf of Charles Capriola, Deceased, Albany, New York, Court of Federal Claims No: 08-0835V.

82. Alexandra and Thomas H. Ripley on behalf of America Elizabeth Ripley, Annapolis, Maryland, Court of Federal Claims No: 08-0836V.

83. Alexandra and Thomas H. Ripley on behalf of Morgan Starr Ripley, Annapolis, Maryland, Court of Federal Claims No: 08-0837V.

84. Sharyn Schroepfer on behalf of Marvin Schroepfer, Deceased, Minneapolis, Minnesota, Court of Federal Claims No: 08-0838V.

85. Sidney Ginsberg, Delray Beach, Florida, Court of Federal Claims No: 08-0843V.

86. Tracy Lara on behalf of Carlos Lara, Enfield, Connecticut, Court of Federal Claims No: 08-0845V.

87. Amy and Livio Saimovici on behalf of Kara Saimovici, Larchmont, New York, Court of Federal Claims No: 08-0846V.

88. Emily and David Steinau on behalf of Zoey Ann Steinau, Orange Park, Florida, Court of Federal Claims No: 08-0849V.

89. Melissa and Daniel Dalgety on behalf of Charles Dalgety, East Syracuse, New York, Court of Federal Claims No: 08-0854V.

90. Donna and Joseph Bersani, West Bridgewater, Massachusetts, Court of Federal Claims No: 08-0855V.

91. Linda Valdez on behalf of Jennifer Valdez, Austin, Texas, Court of Federal Claims No: 08-0856V.

92. Brennen C. Lee, San Diego, California, Court of Federal Claims No: 08-0857V.

93. Mary and Aaron Bornstein on behalf of Cameron Bornstein, Manchester, Connecticut, Court of Federal Claims No: 08-0858V.

94. Barbara Jenkins Spires and Dereck Spires on behalf of Jaren Spires, Bronx, New York, Court of Federal Claims No: 08-0859V.

95. Jacqueline and Mark Smith on behalf of Kaylea E. Smith, Baraboo, Wisconsin, Court of Federal Claims No: 08-0863V.

96. Lisa Smith, Asheboro, North Carolina, Court of Federal Claims No: 08-0864V.

97. Anthony Calise on behalf of Lisa Calise, Deceased, Greenville, North Carolina, Court of Federal Claims No: 08-0865V.

98. Terri S. and Michael D. Holliday on behalf of Joshua Jason Holliday, Bloomington, Illinois, Court of Federal Claims No: 08-0866V.

99. Dana and Kelly Hall on behalf of James Cameron Hall, Park City, Kentucky, Court of Federal Claims No: 08-0867V.

100. Timothy P. Boisvert on behalf of Colin Boisvert, Plantation, Florida, Court of Federal Claims No: 08-0868V.

101. Edna and Keith Knott on behalf of William H. Knott, Tuolumne, California, Court of Federal Claims No: 08-0873V.

102. Violet Smith, Lemoore, California, Court of Federal Claims No: 08-0874V.

103. Laura and Kenneth J. Ashman on behalf of S. A., Glenview, Illinois, Court of Federal Claims No: 08-0880V.

104. Martha Sue Bradley, Harrison, Tennessee, Court of Federal Claims No: 08-0881V.

105. Jackeline Mora Angarita and Luis Vergara on behalf of John Alejandro Vergara, Miami, Florida, Court of Federal Claims No: 08-0882V.

106. Sonia Hylton on behalf of Valencia Hylton, Bronx, New York, Court of Federal Claims No: 08-0885V.

107. Tammy and Tony Goettl on behalf of Spencer Goettl, Waupaca, Wisconsin, Court of Federal Claims No: 08-0886V.

108. Chelvi Selvanayagam and Kengatharan Sivalingam on behalf of Deepan Sivalingam, Dunwoody, Georgia, Court of Federal Claims No: 08-0891V.

109. Timothy Lloyd Knight on behalf of Timothy James Knight, Greenwood, Indiana, Court of Federal Claims No: 08-0893V.

110. Marvel Morgan, Ottawa, Kansas, Court of Federal Claims No: 08-0894V.

111. Jodie and William Fedorka on behalf of Abagail Fedorka, Lexington, South Carolina, Court of Federal Claims No: 08-0897V.

112. Eric Witten, Ft. Worth, Texas, Court of Federal Claims No: 08-0900V.

113. Dawn Baily, Somers Point, New Jersey, Court of Federal Claims No: 08-0901V.

114. Aurthline Sylvia Ivey, Douglasville, Georgia, Court of Federal Claims No: 08-0903V.

115. Jessica Neff, St. Charles, Missouri, Court of Federal Claims No: 08-0906V.

116. Ndu and Mgbedinihu Ukaegbu on behalf of Patrick Ukaegbu, New Rochelle, New York, Court of Federal Claims No: 08-0908V.

117. Chameka Taylor on behalf of L.T., Memphis, Tennessee, Court of Federal Claims No: 08-0909V.

118. Michelle and Joseph Amabile on behalf of a minor child, Chicago, Illinois, Court of Federal Claims No: 08-0912V.

119. Laura and Louie Bruening on behalf of Michael Bruening, New York, New York, Court of Federal Claims No: 08-0913V.

120. Kenneth Chappell, Lubbock, Texas, Court of Federal Claims No: 08-0914V.

121. Laura A. and Chad A. Aeschlimann on behalf of Tanner Reed Aeschlimann, Okinawa, Japan, Court of Federal Claims No: 08-0915V.

122. Kristy and Sean LeFever on behalf of Emma LeFever, Grosse Point, Michigan, Court of Federal Claims No: 08-0916V.

123. Robyn J. Griffith on behalf of Michael J. Griffith, Sparks, Nevada, Court of Federal Claims No: 08-0918V.

124. Christina Bellon on behalf of Brittany LeClair, Dunnellon, Florida, Court of Federal Claims No: 08-0919V.

125. William Thomas Boykin on behalf of his wife, Jean D. Boykin, Deceased, Jacksonville, North Carolina, Court of Federal Claims No: 08-0921V.

126. Jamie M. Swenson and Randy R. Stewart on behalf of Joseph H. Stewart, Garden City, New York, Court of Federal Claims No: 08-0927V.

127. Milica Stijepovic and Frolian Iniguez on behalf of Miliana Iniguez, Downey, California, Court of Federal Claims No: 09-0195V.

128. Fredena Rachelle Warren, Arnold, Missouri, Court of Federal Claims No: 09-0196V.

129. Dawn Jones on behalf of Brennar Jones, St. Joseph, Missouri, Court of Federal Claims No: 09-0197V.

130. Vernica and Edward Hippensteel on behalf of Andrew Hippensteel, Glenn Burnie, Maryland, Court of Federal Claims No: 09-0206V.

131. Adrienne L. Johnson, East Point, Georgia, Court of Federal Claims No: 09-0210V.

132. Irvine Alma Edgar, Lower Burrell, Pennsylvania, Court of Federal Claims No: 09-0213V.

133. John Doe/61 and Jane Doe/61 on behalf of Child Doe/61, Champaign, Illinois, Court of Federal Claims No: 09-0217V.

134. Meena Sharma and Sat Dev Batish on behalf of Diksha Batish, Manhattan, New York, Court of Federal Claims No: 09-0221V.

135. Daniel Nole, Jr. and Julie Nole on behalf of Daniel Nole, III Jersey City, New Jersey, Court of Federal Claims No: 09-0222V.

136. Daniel Nole, Jr. and Julie Nole on behalf of Rocco Nole, Jersey City, New Jersey, Court of Federal Claims No: 09-0223V.

137. Nicole and Darrin MacMillan on behalf of Caiden MacMillan, Glen Mills, Pennsylvania, Court of Federal Claims No: 09-0232V.

138. Ruth J. Garza and Ryan I. Vair on behalf of Mason Vair, Irvine, California, Court of Federal Claims No: 09-0233V.

139. Jennifer and Jeffrey Hardesty on behalf of Jordan Lee Hardesty, Marion, Kentucky, Court of Federal Claims No: 09-0244V.

140. Jane Doe/73, Rochester, New York, Court of Federal Claims No: XX-XXXXV.

141. Leonard L. Parmeter, Mauston, Wisconsin, Court of Federal Claims No: 09-0248V.

142. Tina and Richard Suthers on behalf of Cody Suthers, Baraboo, Wisconsin, Court of Federal Claims No: 09-0252V.

143. John Thompson, Granite City, Illinois, Court of Federal Claims No: 09-0253V.

144. John Doe/83 and Jane Doe/83 on behalf of Child Doe/83, Dallas, Texas, Court of Federal Claims No: 09-0256V.

145. Lisa M. Tovar, Portland, Texas, Court of Federal Claims No: 09-0257V.

146. Shabnam Ferdosi and Hooman Mohammadpour on behalf of Ryan Mohammadpour, San Diego, California, Court of Federal Claims No: 09-0260V.

147. Rosemary DiLascio on behalf of Matthew DiLascio, Mineola, New York, Court of Federal Claims No: 09-0266V.

148. Ivan Woodley, New York, New York, Court of Federal Claims No: 09-0269V.

149. Paul Griglock. Executor of the Estate of Sophie Griglock, Deceased, Wilkes-Barre, Pennsylvania, Court of Federal Claims No: 09-0275V.

150. April Riley, Lancaster, Pennsylvania, Court of Federal Claims No: 09-0276V.

151. Kaitlin Ann Smith, Orlando, Florida, Court of Federal Claims No: 09-0277V.

152. Bethany and Kenneth Walz on behalf of Sabrina Walz, Middletown, New York, Court of Federal Claims No: 09-0278V.

153. Anthony Perez, Albuquerque, New Mexico, Court of Federal Claims No: 09-0281V.

154. Colleen Chee and Marco James on behalf of Marqiano James, Phoenix, Arizona, Court of Federal Claims No: 09-0284V.

155. Tara and Jeffrey Barber on behalf of Mikayla Barber, San Diego, California, Court of Federal Claims No: 09-0285V.

156. Ravinder Dhillon on behalf of Inder M. Dhillon, Wilson, North Carolina, Court of Federal Claims No: 09-0286V.

157. Kelly Webber Black on behalf of N. W., Lakeland, Florida, Court of Federal Claims No: 09-0290V.

158. Elaine M. and Joseph M. Minogue on behalf of Joseph F. Minogue, Mooresville, North Carolina, Court of Federal Claims No: 09-0292V.

159. Rachel McCulloch on behalf of Asia McCulloch, Naples, Florida, Court of Federal Claims No: 09-0293V.

160. James Tidwell, Pulaski, Tennessee, Court of Federal Claims No: 09-0294V.

161. Nancy Davis, Houston, Texas, Court of Federal Claims No: 09-0295V.

162. Debra E. Appleby, Baltimore, Maryland, Court of Federal Claims No: 09-0296V.

163. Kim and Richard Castaldi on behalf of Vincent Castaldi, Chickasha, Oklahoma, Court of Federal Claims No: 09-0300V.

164. Sara E. Sotomayor, Somerset, Pennsylvania, Court of Federal Claims No: 09-0304V.

165. Waldon Jewett, Pierre, South Dakota, Court of Federal Claims No: 09-0307V.

166. Veronica and Justin Rawnsley on behalf of Francis Rawnsley, Deceased, Wolfeboro, New Hampshire, Court of Federal Claims No: 09-0308V.

167. Erica and Jeremy Henicke on behalf of Keaton Henicke, Houston, Texas Court of Federal Claims No: 09-0309V.

168. Maedot Teka on behalf of Tibebu Abebe, New York, New York Court of Federal Claims No: 09-0310V.

169. Crystal Gaide and her unborn baby, Deerfield Beach, Florida, Court of Federal Claims No: 09-0312V.

170. Deborah Piscione and Dino Piscione on behalf of Dominick Piscione, Reston, Virginia, Court of Federal Claims No: 09-0313V.

171. Heather Narmore, Florence, Alabama, Court of Federal Claims No: 09-0316V.

172. Kelly Arango on behalf of Isabela Orozco, Stamford, Connecticut, Court of Federal Claims No: 09-0318V.

173. Carol James, Tulsa, Oklahoma, Court of Federal Claims No: 09-0321V.

174. Marina Melnikova on behalf of Paramon Alexei Yevstigneyev, Portland, Oregon, Court of Federal Claims No: 09-0322V.

175. Luis F. Lamboy, San Juan, Puerto Rico, Court of Federal Claims No: 09-0328V.

176. Louis F. Friedman, Baltimore, Maryland, Court of Federal Claims No: 09-0331V.

177. James D. Bryant on behalf of George S. Schlazer, Deceased, Florence, South Carolina, Court of Federal Claims No: 09-0336V.

178. Michelle Hamman, Melbourne, Florida, Court of Federal Claims No: 09-0341V.

179. Krystyna Waszkiewicz on behalf of Adam Waszkiewicz, Massapequa, New York, Court of Federal Claims No: 09-0342V.

180. James Bell, Mars, Pennsylvania, Court of Federal Claims No: 09-0344V.

181. Sonyia Fayal on behalf of Brandon Fayal, Murfreesboro, Tennessee, Court of Federal Claims No: 09-0345V.

182. Leonard R. Davis, Camden, New York, Court of Federal Claims No: 09-0346V.

183. Teri and James Griffin on behalf of James Marshall Griffin, Columbia, South Carolina, Court of Federal Claims No: 09-0353V.

184. Gilbert W. Johnson, Sr., Philadelphia, Pennsylvania, Court of Federal Claims No: 09-0360V.

185. Yung Jen Kuo, Covina, California, Court of Federal Claims No: 09-0361V.

186. Donna Alexander, Tifton, Georgia, Court of Federal Claims No: 09-0362V.

187. Claudia and Robert Dirk Johnson on behalf of Cason Skye Johnson, Huntington Beach, California, Court of Federal Claims No: 09-0365V.

188. Richard D. Hummel, Lebanon, Pennsylvania, Court of Federal Claims No: 09-0373V.

189. Karen Enman, Presque Isle, Maine, Court of Federal Claims No: 09-0381V.

190. Leonard Goldstein, Philadelphia, Pennsylvania, Court of Federal Claims No: 09-0382V.

191. Lori Hessler on behalf of Forrest Q. Spahn, Chicago, Illinois, Court of Federal Claims No: 09-0386V.

192. Jill Barrett on behalf of Kylie Barrett, Pittsburgh, Pennsylvania, Court of Federal Claims No: 09-0389V.

193. Rachel Campbell, Vernon, Indiana, Court of Federal Claims No: 09-0390V.

194. Bryce G. Milne, Jr., Saco, Maine, Court of Federal Claims No: 09-0391V.

195. Janet Ann Le Grand Rice and Edward Gordon Rice on behalf of Colin Matthew Rice, Oak Lawn, Illinois, Court of Federal Claims No: 09-0394V.

196. Jessica and Tyler Harrison on behalf of Emily Harrison, San Diego, California, Court of Federal Claims No: 09-0395V.

197. Lisa Tindal on behalf of Cooper Lee Tindal, Omaha, Nebraska, Court of Federal Claims No: 09-0396V.

198. Angelica Driggs, Sarasota, Florida, Court of Federal Claims No: 09-0402V.

199. Jennifer M. Groves on behalf of S. M. G., Naugatuck, Connecticut, Court of Federal Claims No: 09-0405V.

200. Julianne Scherzinger, San Antonio, Texas, Court of Federal Claims No: 09-0407V.

201. Douglas Probert, Boston, Massachusetts, Court of Federal Claims No: 09-0408V.

202. Jessica and Phillip Allen on behalf of Logan Stewart Allen, Danville, Kentucky, Court of Federal Claims No: 09-0409V.

203. Windy Clark on behalf of B. K. P., Sarasota, Florida, Court of Federal Claims No: 09-0410V.

204. John Doe/47, Philadelphia, Pennsylvania, Court of Federal Claims No: 09-0417V.

205. Renada Cerniglia, Denver, Colorado, Court of Federal Claims No: 09-0418V.

206. Virginia Thomas, Collins, Colorado, Court of Federal Claims No: 09-0422V.

207. Rickey G. Butts, Hawesville, Kentucky, Court of Federal Claims No: 09-0423V.

208. William M. Corey, Elizabethtown, North Carolina, Court of Federal Claims No: 09-0424V.

209. Charles J. Hartman, Sr., Monroeville, Pennsylvania, Court of Federal Claims No: 09-0425V.

210. David A. Brown, San Bernardino, California, Court of Federal Claims No: 09-0426V.

211. Gary Roberts and Anita Roberts on behalf of Amber Roberts, Williamstown, Kentucky, Court of Federal Claims No: 09-0427V.

212. Sharon Murrell on behalf of Shakari Murrell, Montgomery, Alabama, Court of Federal Claims No: 09-0430V.

213. Letasha Betancourt on behalf of Andrew Rahmel Breeden, Jr. aka Andrew Betancourt, Deceased, Staten Island, New York, Court of Federal Claims No: 09-0433V.

214. Luis Lopez, Napa, California, Court of Federal Claims No: 09-0434V.

215. Mildred Lawrence, Carrollton, Georgia, Court of Federal Claims No: 09-0435V.

216. Paul Piazza, Glens Falls, New York, Court of Federal Claims No: 09-0436V.

217. Dianne Lee, Fincastle, Virginia, Court of Federal Claims No: 09-0437V.

218. Tracy and Kevin Tock on behalf of Bryce Tock, Brookfield, Wisconsin, Court of Federal Claims No: 09-0438V.

219. Elizabeth and Brandon Graham on behalf of a minor child, Greenwood, South Carolina, Court of Federal Claims No: 09-0439V.

220. Robert A. Laskoff, Lewiston, Maine, Court of Federal Claims No: 09-0443V.

221. Ma C. Valerio and Ramil I. Gambal on behalf of C.D.G., East Windsor, New Jersey, Court of Federal Claims No: 09-0444V.

222. Saundra C. Romano, Stockton, California, Court of Federal Claims No: 09-0447V.

223. Jessica Denton and Richard Coy Merkel on behalf of Teagan Coy Merkel, Deceased, Durant, Oklahoma, Court of Federal Claims No: 09-0448V.

224. Precious Bankston on behalf of Shaniah Nicole Puckett, Decatur, Alabama, Court of Federal Claims No: 09-0449V.

225. Walid Ibrahim, Fort Benning, Georgia, Court of Federal Claims No: 09-0450V.

226. Walter J. Rapp, Glasgow, Kentucky, Court of Federal Claims No: 09-0451V.

227. Jeremy Hodge, Canoga Park, California, Court of Federal Claims No: 09-0453V.

228. John Doe/94 and Jane Doe/94 on behalf of Child Doe/94, Trumbull, Connecticut, Court of Federal Claims No: 09-0458V.

229. Marcia and Kevin Harrison on behalf of Megan Harrison, Suwanee, Georgia, Court of Federal Claims No: 09-0459V.

230. Alicia Dawn and William Richard Rice, Jr. on behalf of William Payton Rive, Nashville, Georgia, Court of Federal Claims No: 09-0461V.

231. Allison and Scott Miller on behalf of Aidan Miller, San Diego, California, Court of Federal Claims No: 09-0466V.

232. Demetrice Mathis on behalf of N.M., Columbus, Georgia, Court of Federal Claims No: 09-0467V.

233. Donna and Kane Daley on behalf of Jacob Daley, Claremore, Oklahoma, Court of Federal Claims No: 09-0468V.

234. Mark E. DeWeese, Tulsa, Oklahoma, Court of Federal Claims No: 09-0469V.

235. Brandon Kennedy, Minocqua, Wisconsin, Court of Federal Claims No: 09-0474V.

236. Rachel A. Rivera, Houston, Texas, Court of Federal Claims No: 09-0475V.

237. Nicole M. and Adam C. Simon on behalf of Dylan Carter Simon, Bryn Mawr, Pennsylvania, Court of Federal Claims No: 09-0480V.

238. Amber Jolley, Idaho Falls, Idaho, Court of Federal Claims No: 09-0482V.

239. Christina Mainella, Saratoga Springs, New York, Court of Federal Claims No: 09-0483V.

240. Brittany Smith, Jackson, Kentucky, Court of Federal Claims No: 09-0484V.

241. Eric Steven Geib, Shelby Township, Michigan, Court of Federal Claims No: 09-0485V.

242. Amanda and Micah Williamson on behalf of Aiden Mekhi Williamson, Hattiesburg, Mississippi, Court of Federal Claims No: 09-0488V.

243. Dulce Reilly on behalf of E.R., Wilmington, North Carolina, Court of Federal Claims No: 09-0489V.

244. Ashlee Boll, Hutchinson, Kansas, Court of Federal Claims No: 09-0501V.

245. Deanna and Scott Gromowski on behalf of Ian Gromowski, Milwaukee, Wisconsin, Court of Federal Claims No: 09-0511V.

246. Carolyn Sigwing on behalf of Buddy Sigwing, Wichita, Kansas, Court of Federal Claims No: 09-0512V.

247. Cynthia and Joseph Dagenhart on behalf of their minor daughter, Newport News, Virginia, Court of Federal Claims No: 09-0518V.

248. Alla Goldman, Livingston, New Jersey, Court of Federal Claims No: 09-0519V.

249. Jessica Ramirez on behalf of Nicholas Hernandez, Deceased, Williamson, Texas, Court of Federal Claims No: 09-0520V.

250. Ralph Gibson, Ardmore, Oklahoma, Court of Federal Claims No: 09-0521V.

251. Pamela A. Goudge on behalf of Megan Elizabeth Goudge, Bakersfield, California, Court of Federal Claims No: 09-0522V.

252. Charlotte Jacunski, Northville, Michigan, Court of Federal Claims No: 09-0524V.

253. Deshawn and Ricky Khamis on behalf of Kaden James Khamis, Gilbert, Arizona, Court of Federal Claims No: 09-0525V.

254. Tara Stringfellow, Evanston, Illinois, Court of Federal Claims No: 09-0526V.

255. Shanay Hall on behalf of A.H., Miami, Florida, Court of Federal Claims No: 09-0529V.

256. Vincent F. DiFazio, Birmingham, Alabama, Court of Federal Claims No: 09-0530V.

257. Victoria H. Franks, Bentonville, Arkansas, Court of Federal Claims No: 09-0536V.

258. Arianne Barnes, Hattiesburg, Mississippi, Court of Federal Claims No: 09-0537V.

259. Camelia H. Habito, Milpitas, California, Court of Federal Claims No: 09-0540V.

260. Meredith A. Bambalis, Winston-Salem, North Carolina, Court of Federal Claims No: 09-0543V.

261. Chloe Sampley on behalf of Jonathan Sampley, II Milton, Florida, Court of Federal Claims No: 09-0544V.

262. Charles E. Bittner, Cumberland, Maryland, Court of Federal Claims No: 09-0545V.

263. David Manno, New Orleans, Louisiana, Court of Federal Claims No: 09-0547V.

264. Scott L. Wilson, San Antonio, Texas, Court of Federal Claims No: 09-0548V.

265. Martin Mantz, Jackson, Ohio, Court of Federal Claims No: 09-0550V.

266. Crista L. Valdez on behalf of Santana Valdez, Deceased, Albuquerque, New Mexico, Court of Federal Claims No: 09-0551V.

267. Gisele Beauchamp on behalf of Roger Beauchamp, Melbourne, Florida, Court of Federal Claims No: 09-0552V.

268. Catherine Kelsey, Merriam, Kansas, Court of Federal Claims No: 09-0553V.

269. Ana L. Ruiz, Miami, Florida, Court of Federal Claims No: 09-0554V.

270. Tracy M. Stone, Indianapolis, Indiana, Court of Federal Claims No: 09-0555V.

271. Sheinar Bravo, Torrance, California, Court of Federal Claims No: 09-0556V.

272. Jennifer Swann and Casey Chavez on behalf of Xander Chavez, Lawton, Oklahoma, Court of Federal Claims No: 09-0557V.

273. Michelle and Patrick Boyle on behalf of Liam J. Boyle, Delafield, Wisconsin, Court of Federal Claims No: 09-0560V.

274. James R. Boussier, Jr., Surprise, Arizona, Court of Federal Claims No: 09-0561V.

275. Barbara Plunkett on behalf of Patrick Plunkett, Yonkers, New York, Court of Federal Claims No: 09-0566V.

276. Debbie H. Smiley on behalf of Jalen Smiley, Pensacola, Florida, Court of Federal Claims No: 09-0570V.

277. Shannon and Ed O'Brien on behalf of Kyla O'Brien, San Diego, California, Court of Federal Claims No: 09-0573V.

278. Jeannie McClendon on behalf of Daniel Jacob McClendon, Camden, South Carolina, Court of Federal Claims No: 09-0574V.

279. Heather Ralston on behalf of Bradley Ralston, Arlington, Washington, Court of Federal Claims No: 09-0580V.

280. John Downing, Portsmouth, Virginia, Court of Federal Claims No: 09-0582V.

281. Lamona Sow on behalf of Sheikh Sow, Jackson, Tennessee, Court of Federal Claims No: 09-0585V.

282. Billie Jo Lozano, McAllen, Texas, Court of Federal Claims No: 09-0586V.

283. Patricia Morrow, Bethesda, Maryland, Court of Federal Claims No: 09-0588V.

284. Grady Riggs, Kensington, Maryland, Court of Federal Claims No: 09-0589V.

285. Nicole Fankhauser, Winston Salem, North Carolina, Court of Federal Claims No: 09-0590V.

286. John Doe/63 and Jane Doe/63 on behalf of Child Doe/63, Oregon City, Oregon, Court of Federal Claims No: 09-0596V.

287. Kimberly K. Gainey, Okaloosa County, Florida, Court of Federal Claims No: 09-0597V.

288. Gerald Steidl, Waukesha, Wisconsin, Court of Federal Claims No: 09-0598V.

289. Colette M. Ridge on behalf of Cameron Ridge, Crestview Hills, Kentucky, Court of Federal Claims No: 09-0599V.

290. Jane Doe/95, Breaux Bridge, Louisiana, Court of Federal Claims No: 09-0601V.

291. Morgan Barnes, Florence, Kentucky, Court of Federal Claims No: 09-0603V.

292. Patrice Donohue, Seattle, Washington, Court of Federal Claims No: 09-0604V.

293. A. K., Cambridge, Massachusetts, Court of Federal Claims No: 09-0605V.

294. Camile Vega-Willard, San Antonio, Texas, Court of Federal Claims No: 09-0606V.

295. Maranda Dawn Crane on behalf of Karley Dean Crane, Dawsonville, Georgia, Court of Federal Claims No: 09-0608V.

296. Toni Zerangue and John Jumonville, III on behalf of Julia Jumonville, Lafayette, Louisiana, Court of Federal Claims No: 09-0609V.

297. John Doe/88, Smiths Station, Alabama, Court of Federal Claims No: 09-0610V.

298. Amanda Ditomasso, Ellington, Connecticut, Court of Federal Claims No: 09-0611V.

299. Julie A. Allen on behalf of Lydia K. Allen, Omaha, Nebraska, Court of Federal Claims No: 09-0613V.

300. Kevin Stewart, Evansville, Indiana, Court of Federal Claims No: 09-0614V.

301. James Stewart, Albuquerque, New Mexico, Court of Federal Claims No: 09-0615V.

302. Alisha Henderson on behalf of Alexis Henderson, Weddington, North Carolina, Court of Federal Claims No: 09-0616V.

303. John Miller, Stony Brook, New York, Court of Federal Claims No: 09-0621V.

304. Jan and Eric Bahnsen on behalf of Sarah Bahnsen, Pompton Lakes, New Jersey, Court of Federal Claims No: 09-0624V.

305. Fran Pettit on behalf of Holden Rex Pettit, Greenville, South Carolina, Court of Federal Claims No: 09-0628V.

306. Lawrence Coppola, Bremerton, Washington, Court of Federal Claims No: 09-0631V.

307. Shirley T. Mernick, Corona, California, Court of Federal Claims No: 09-0632V.

308. Naporsche Watkins, Bolivar, Tennessee, Court of Federal Claims No: 09-0633V.

309. Moises Vega, Fort Lauderdale, Florida, Court of Federal Claims No: 09-0634V.

310. Vanessa David (a/k/a Vanessa Kirby) San Antonio, Texas, Court of Federal Claims No: 09-0636V.

311. Raymond Deloach, Savannah, Georgia, Court of Federal Claims No: 09-0637V.

312. Kyle A. Edwards, Erie, Pennsylvania, Court of Federal Claims No: 09-0643V.

313. Nicole Gilkison on behalf of Charles Gilkison, Kansas City, Missouri, Court of Federal Claims No: 09-0645V.

314. Steven Dudash, High Point, North Carolina, Court of Federal Claims No: 09-0646V.

315. Griselli and Alejandron Perez on behalf of Daniel Perez, Miami, Florida, Court of Federal Claims No: 09-0647V.

316. Katea D. Stitt on behalf of Pamela Wanga Stitt, Silver Spring, Maryland, Court of Federal Claims No: 09-0653V.

317. William F. Anderson, Canaan, Connecticut, Court of Federal Claims No: 09-0654V.

318. Susan Lucille Voigt on behalf of Edward John Voight, McMinnville, Oregon, Court of Federal Claims No: 09-0655V.

319. Charles Chester on behalf of Barbara Chester, Solvang, California, Court of Federal Claims No: 09-0656V.

320. Rosella Lyons, Birmingham, Alabama, Court of Federal Claims No: 09-0657V.

321. Kimberly Ann Miller, Sarasota, Florida, Court of Federal Claims No: 09-0658V.

322. Terry L. Baird on behalf of Evelyn M. Baird, Deceased, Terrell, Texas, Court of Federal Claims No: 09-0659V.

323. John Doe/86, Palm Coast, Florida, Court of Federal Claims No: 09-0660V.

324. Miranda Clements on behalf of Gabriel Locklear, Peachtree City, Georgia, Court of Federal Claims No: 09-0662V.

325. Rose and Lavoris Williams on behalf of Matthew Williams, Tallahassee, Florida, Court of Federal Claims No: 09-0664V.

326. Rebecca L. Kline, Fort Wayne, Indiana, Court of Federal Claims No: 09-0665V.

327. Timothy John Wagenaar, Coopersville, Michigan, Court of Federal Claims No: 09-0668V.

328. Jessica Jones, South Ogden, Utah, Court of Federal Claims No: 09-0670V.

329. Sharon Taylor Bowden.

Marble Falls, Texas, Court of Federal Claims No: 09-0671V.

330. Celeste Reese on behalf of Julius Reese, Mission Hills, California, Court of Federal Claims No: 09-0674V.

331. Maria Andaya.

Newark, Delaware, Court of Federal Claims No: 09-0678V.

332. Glenda McCarty, Springfield, Missouri, Court of Federal Claims No: 09-0679V.

333. Stephanie Roberson on behalf of Bailey Roberson, Odessa, Texas, Court of Federal Claims No: 09-0682V.

334. Deshanna and Brad Anthony Batiste, Sr. on behalf of Brennan Antonio Batiste, Vacherie, Louisiana, Court of Federal Claims No: 09-0683V.

335. Melissa and Cecil Davis on behalf of Ciera Davis.

Bentonville, Arkansas, Court of Federal Claims No: 09-0684V.

336. Jane Abrahamsen, Livingston, New Jersey, Court of Federal Claims No: 09-0685V.

337. Crystal Goodwin, Atlanta, Georgia, Court of Federal Claims No: 09-0689V.

338. Tami L. Baldwin on behalf of Lacy Ashtyn Baldwin, Grand Junction, Colorado, Court of Federal Claims No: 09-0694V.

339. Gordy Guilbeaux, New Iberia, Louisiana, Court of Federal Claims No: 09-0695V.

340. Maher Girgis, Columbus, Ohio, Court of Federal Claims No: 09-0696V.

341. Charles Clayton, East Liverpool, Ohio, Court of Federal Claims No: 09-0697V.

342. Stephanie D. and Brian R. Parmley on behalf of Isaiah Ray Parmley, Longview, Washington, Court of Federal Claims No: 09-0698V.

343. Shannon and Edward O'Brien on behalf of Kyla O'Brien, La Jolla, California, Court of Federal Claims No: 09-0699V.

344. Donald Paul Potter, Richlands, Virginia, Court of Federal Claims No: 09-0700V.

345. Lawrence Habenicht, West Chester, Ohio, Court of Federal Claims No: 09-0703V.

346. Victoria Kashfi, Los Angeles, California, Court of Federal Claims No: 09-0705V.

347. Tyler Taconi, Biloxi, Mississippi, Court of Federal Claims No: 09-0706V.

348. Lela Margaret Oldham on behalf of Billy Ray Oldham, Allen, Texas, Court of Federal Claims No: 09-0707V.

349. Adriana Lepadatu, San Diego, California, Court of Federal Claims No: 09-0710V.

350. Kristen Timmerman on behalf of C.T., Blackshear, Georgia, Court of Federal Claims No: 09-0711V.

351. Rose Cotter, Middleton, Massachusetts, Court of Federal Claims No: 09-0715V.

352. Timothy Curran, Sacramento, California, Court of Federal Claims No: 09-0716V.

353. Alberto Wancel, St. Louis, Missouri, Court of Federal Claims No: 09-0717V.

354. Delores M. Harman, Fort Wayne, Indiana, Court of Federal Claims No: 09-0718V.

355. Shirley Riley, Lakeland, Florida, Court of Federal Claims No: 09-0719V.

356. Kim and Kevin Steinberg on behalf of Sydni Steinberg, Chesterfield, Missouri, Court of Federal Claims No: 09-0720V.

357. Melissa and Daniel Dalgety on behalf of Robert Dalgety, Liverpool, New York, Court of Federal Claims No: 09-0722V.

358. Melissa and Daniel Dalgety on behalf of Charles Dalgety, Liverpool, New York, Court of Federal Claims No: 09-0723V.

359. Mallory Myers, Maumee, Ohio, Court of Federal Claims No: 09-0724V.

360. Jennifer Thompson and Jarrod Rickard on behalf of Allie Ann Rickard, Owensboro, Kentucky, Court of Federal Claims No: 09-0729V.

361. Jessica Weninger, Bismarck, North Dakota, Court of Federal Claims No: 09-0730V.

362. Tracy and Daren Arakelian on behalf of Charles Arakelian, Rensselaer, New York, Court of Federal Claims No: 09-0731V.

363. Deborah and Jamey McBee on behalf of Kenneth Blake McBee, Cartersville, Georgia, Court of Federal Claims No: 09-0736V.

364. Angie and Justin Kenney on behalf of Nevaeh Kenney, Bangor, Maine, Court of Federal Claims No: 09-0738V.

365. Beverly Summers, Little Rock, Arkansas, Court of Federal Claims No: 09-0743V.

366. John R. Citizen, Alpharetta, Georgia, Court of Federal Claims No: 09-0744V.

367. Jillian and Michael Shifflett on behalf of Abigail Shifflett, Manassas, Virginia, Court of Federal Claims No: 09-0745V.

368. Jacob Perry, Silver Spring, Maryland, Court of Federal Claims No: 09-0749V.

369. Becky Sather, Sioux Falls, South Dakota, Court of Federal Claims No: 09-0753V.

370. Fred Collett, Manchester, Kentucky, Court of Federal Claims No: 09-0754V.

371. Brittany Moldover, Langhorne, Pennsylvania, Court of Federal Claims No: 09-0755V.

372. Diedre Burke, Los Angeles, California, Court of Federal Claims No: 09-0756V.

373. Ferdinando Lazzara, Califon, New Jersey, Court of Federal Claims No: 09-0757V.

374. Keith Pryor, El Segundo, California, Court of Federal Claims No: 09-0760V.

375. Howard Kohn, Los Angeles, California, Court of Federal Claims No: 09-0763V.

376. Dale Connor, Pittsfield, Massachusetts, Court of Federal Claims No: 09-0764V.

377. John F. Belfiore, Baltimore, Maryland, Court of Federal Claims No: 09-0765V.

378. Anne M. Scott, Brewster, New York, Court of Federal Claims No: 09-0766V.

379. Judy Rice Huff on behalf of Edward Ray Huff, Monroe, North Carolina, Court of Federal Claims No: 09-0767V.

380. Leslie Hale, Lompac, California, Court of Federal Claims No: 09-0768V.

381. Patricia Kay Lackens, Franklin, Ohio, Court of Federal Claims No: 09-0773V.

382. Kathy Ladon Graham, Richardson, Texas, Court of Federal Claims No: 09-0774V.

383. Tracy Jo Herman on behalf of Lincoln Kauffman, Boston, Massachusetts, Court of Federal Claims No: 09-0775V.

384. Eddie Maxie, Shreveport, Louisiana, Court of Federal Claims No: 09-0776V.

385. Sue K. Sharr and Maureen T. Cox on behalf of Mary Kelly, Deceased, West Chester, Pennsylvania, Court of Federal Claims No: 09-0777V.

386. Christina McClain and Cory McClain on behalf of N. M. Sebastian, Florida, Court of Federal Claims No: 09-0778V.

387. Emi and Kevin Burke on behalf of Conor Burke, Baltimore, Maryland, Court of Federal Claims No: 09-0779V.

388. Mark Clark, Fort Wayne, Indiana, Court of Federal Claims No: 09-0781V.

389. Karen Degiorgio, Tampa, Florida, Court of Federal Claims No: 09-0782V.

390. Latasha Shelton on behalf of Mason Malone, Selma, Alabama, Court of Federal Claims No: 09-0785V.

391. Heather Steel, St. Petersburg, Florida, Court of Federal Claims No: 09-0787V.

392. Lumari Torres on behalf of Darla Ramirez, Orlando, Florida, Court of Federal Claims No: 09-0789V.

393. James Edward Oden, Alma, Arkansas, Court of Federal Claims No: 09-0790V.

394. Sharon Kuhn, Minneapolis, Minnesota, Court of Federal Claims No: 09-0791V.

395. Gary D. Murphree, Atlanta, Georgia, Court of Federal Claims No: 09-0792V.

396. Abdulghani Gitesatani, San Diego, California, Court of Federal Claims No: 09-0799V.

397. Nicole Elizabeth Dow and Philip Ryan Tufts on behalf of Alexia Grace Tufts, Rochester, New Hampshire, Court of Federal Claims No: 09-0801V.

398. Marcy E. Pell and Aaron C. Pell on behalf of Jake B. Pell, Commack, New York, Court of Federal Claims No: 09-0802V.

399. Stacey and Renee Wyler on behalf of Morgan Alexandra Wyler, Traverse City, Michigan, Court of Federal Claims No: 09-0803V.

400. Joanna and Robert Kiff on behalf of Jonathan Kiff, Mineola, New York, Court of Federal Claims No: 09-0807V.

401. Alyssa Tucker and Christopher Tucker on behalf of N. T., Deceased, Hattiesburg, Mississippi, Court of Federal Claims No: 09-0808V.

402. Gabrielle Leonada Martin and Michael Andre Montgomery on behalf of Breanna Vashaun Faith Marshall, Peoria, Illinois, Court of Federal Claims No: 09-0809V.

403. Kimberlee Spognardi, Boston, Massachusetts, Court of Federal Claims No: 09-0810V.

404. Teresa Springfield, Florence, Colorado, Court of Federal Claims No: 09-0811V.

405. Fatima Mohamud on behalf of Koshin Yusuf, Bloomington, Minnesota, Court of Federal Claims No: 09-0812V.

406. Kay Dillig on behalf of James Dillig, Deceased, Milwaukee, Wisconsin, Court of Federal Claims No: 09-0813V.

407. Paul L. Cleary, Middleboro, Massachusetts, Court of Federal Claims No: 09-0816V.

408. Mirna Garcia on behalf of Arleth Cano, Houston, Texas, Court of Federal Claims No: 09-0817V.

409. James Troksa, Bartlett, Illinois, Court of Federal Claims No: 09-0818V.

410. Karla Stone and John Libby on behalf of Summer H. Libby, Haymarket, Virginia, Court of Federal Claims No: 09-0820V.

411. Fruto Soto, Bronx, New York, Court of Federal Claims No: 09-0823V.

412. Diemchau Nguyen, Temecula, California, Court of Federal Claims No: 09-0825V.

413. Rodger H. Plemmons, Myrtle Beach, South Carolina, Court of Federal Claims No: 09-0826V.

414. Bobby Joe Crain, Little Rock, Arkansas, Court of Federal Claims No: 09-0831V.

415. Chantelle Marcello, Webster, New York, Court of Federal Claims No: 09-0833V.

416. Deborah A. Lashomb, Potsdam, New York, Court of Federal Claims No: 09-0834V.

417. Katherine McKellar, Victorville, California, Court of Federal Claims No: 09-0841V.

418. Eric Edwards on behalf of Jessalyn Edwards, Deceased, Charlestown, South Carolina, Court of Federal Claims No: 09-0845V.

419. Jeffrey B. Barron, Santa Clara, California, Court of Federal Claims No: 09-0846V.

420. Sean Davis, Overland Park, Kansas, Court of Federal Claims No: 09-0853V.

421. Amanda Ferris on behalf of Landen Ferris, Iona, Michigan, Court of Federal Claims No: 09-0854V.

422. Sharon Kemp and Joie Gant on behalf of J. G., St. Louis, Missouri, Court of Federal Claims No: 09-0855V.

423. Tamy T. Nguyen, San Diego, California, Court of Federal Claims No: 09-0858V.

424. William C. McKenna, Torrington, Connecticut, Court of Federal Claims No: 09-0859V.

425. Claritza and William Torres on behalf of W. T., Philadelphia, Pennsylvania, Court of Federal Claims No: 09-0867V.

426. Lucien and Nadege Civil on behalf of Luce-Naidge Civil, Miami, Florida, Court of Federal Claims No: 09-0870V.

427. Melissa Silva, Mayaguez, Puerto Rico, Court of Federal Claims No: 09-0871V.

428. Robin Williams, Baltimore, Maryland, Court of Federal Claims No: 09-0873V.

429. Heidi and Matthew Ferguson on behalf of Jacob Ferguson, Andrews Air Force Base, California, Court of Federal Claims No: 09-0874V.

430. Robert Battistone, Houston, Texas, Court of Federal Claims No: 09-0878V.

431. Jamie Pelloquin and Patrick Wayne Authement on behalf of Chloe Authement, Lake Charles, Louisiana, Court of Federal Claims No: 09-0887V.

432. Jacquie Nygren, Exton, Pennsylvania, Court of Federal Claims No: 09-0889V.

433. Erica Utter on behalf of Dylan Utter, Oneonta, New York, Court of Federal Claims No: 09-0894V.

434. John Ellis Milinis, Charleston, South Carolina, Court of Federal Claims No: 09-0895V.

435. Michael Ramsey on behalf of Nathan Ramsey, Houston, Texas, Court of Federal Claims No: 09-0896V.

436. Veronica and Sergio Soto on behalf of Alexander Soto, Rockford, Illinois, Court of Federal Claims No: 09-0897V.

437. Laura Roy, Milton, Massachusetts, Court of Federal Claims No: 09-0898V.

438. Adele H. Furnas, Wild Rose, Wisconsin, Court of Federal Claims No: 09-0899V.

439. Brandy Bellikka on behalf of Jose Jesus Garcia, Minneapolis, Minnesota, Court of Federal Claims No: 10-0001V.

440. Patricia Moyer, Tucson, Arizona, Court of Federal Claims No: 10-0002V.

441. Ameenah Eason on behalf of Anthony Price Perry, Delran, New Jersey, Court of Federal Claims No: 10-0008V.

442. Stacey Gibson, Louisville, Kentucky, Court of Federal Claims No: 10-0009V.

443. James Hummel, Elkton, Maryland, Court of Federal Claims No: 10-0019V.

444. Victoria A. Resh, Codorus, Pennsylvania, Court of Federal Claims No: 10-0020V.

445. Adrian Michael Martinez, Scottsdale, Arizona, Court of Federal Claims No: 10-0021V.

446. Theresa King and Tom King on behalf of Jennifer King, Oakland, Maryland, Court of Federal Claims No: 10-0022V.

447. India Lucas, Donaldsonville, Louisiana, Court of Federal Claims No: 10-0023V.

448. Patsy Fucci, New Port Richey, Florida, Court of Federal Claims No: 10-0024V.

449. Ed W. Yost, Lumberton, North Carolina, Court of Federal Claims No: 10-0025V.

450. Gail Campbell, Florence, South Carolina, Court of Federal Claims No: 10-0030V.

451. Kenneth Reilly, Denver, Colorado, Court of Federal Claims No: 10-0031V.

452. Nicole and Steven Forrest on behalf of Elizabeth M. Forrest, Marrero, Louisiana, Court of Federal Claims No: 10-0032V.

453. Julie Fang on behalf of Elijah Yang, Banning, California, Court of Federal Claims No: 10-0033V.

454. Nicole Earles on behalf of Khalil W. Earles, Washington, District of Columbia, Court of Federal Claims No: 10-0034V.

455. Becky Howell-Adams and Robert C. Adams on behalf of S. R. A., Lake Forest, Illinois, Court of Federal Claims No: 10-0036V.

456. Lisa Nguyen McBride and Christopher Carlton McBride on behalf of Christopher Andrew, McBride, Aiken, South Carolina, Court of Federal Claims No: 10-0037V.

457. David Pettitt and Kym Pettitt on behalf of Brendan Pettit, Webster, New York, Court of Federal Claims No: 10-0038V.

458. Yael and Jonathan Ellis on behalf of D. E., Clearwater, Florida, Court of Federal Claims No: 10-0039V.

459. Virginia Williams, Salina, Kansas, Court of Federal Claims No: 10-0040V.

460. Carletta Lewis on behalf of Sean Hicks, Fayetteville, North Carolina, Court of Federal Claims No: 10-0044V.

461. Scott Allen Scholten.

Ponca City, Oklahoma, Court of Federal Claims No: 10-0047V.

462. Michael Cochran, Atlanta, Georgia, Court of Federal Claims No: 10-0049V.

463. Billy Charles Sechler, Salisbury, North Carolina, Court of Federal Claims No: 10-0052V.

464. Sue Wang Liu and Shingshan Liu on behalf of Dan Liu, Westfield, New Jersey, Court of Federal Claims No: 10-0055V.

465. Barbara and Philip Tetlock on behalf of Jennifer Tetlock, Berkeley, California, Court of Federal Claims No: 10-0056V.

466. Monica Freese, Flint, Michigan, Court of Federal Claims No: 10-0059V.

467. Dennis Greunke, Baraboo, Wisconsin, Court of Federal Claims No: 10-0061V.

468. Seth A. Hodge, Olympia, Washington, Court of Federal Claims No: 10-0067V.

469. Ben F. Zercher, Chino Valley, Arizona, Court of Federal Claims No: 10-0069V.

470. Elizabeth A. Vitanza, Los Angeles, California, Court of Federal Claims No: 10-0071V.

471. Charlotte Brammer on behalf of M.B., Little Rock, Arkansas, Court of Federal Claims No: 10-0072V.

472. Isaac A. Potter, Jr., Monroe, Louisiana, Court of Federal Claims No: 10-0074V.

473. Kathryn and Ellis Graham on behalf of Latia Graham, Oklahoma City, Oklahoma, Court of Federal Claims No: 10-0075V.

474. D. S., Birmingham, Michigan, Court of Federal Claims No: 10-0077V.

475. Susan Hamm, St. Paul, Minnesota, Court of Federal Claims No: 10-0078V.

476. Garry Baldridge, Canyon, Texas, Court of Federal Claims No: 10-0079V.

477. Oliver Kelzenberg, Austin, Texas, Court of Federal Claims No: 10-0080V.

478. Jerry L. Henson, Columbia, South Carolina, Court of Federal Claims No: 10-0081V.

479. Christina and Thomas Closs on behalf of Anna Joelee Closs, Richmond, Kentucky, Court of Federal Claims No: 10-0082V.

480. Patricia Ann Barron, Diamond Bar, California, Court of Federal Claims No: 10-0085V.

481. Suzanne and Chauncey Mize on behalf of Matthew Morrison Mize, Meridian, Mississippi, Court of Federal Claims No: 10-0086V.

482. Sarah Elizabeth Jackson, Cape Coral, Florida, Court of Federal Claims No: 10-0089V.

483. Dawn A. and James E. Sipprell on behalf of Parker J. Sipprell, Coatesville, Pennsylvania, Court of Federal Claims No: 10-0090V.

484. Yanina Padilla on behalf of Alexis Padilla, Las Cruces, New Mexico, Court of Federal Claims No: 10-0091V.

485. Abigail Medina on behalf of Juan Sanchez, Springfield, Massachusetts, Court of Federal Claims No: 10-0093V.

486. Susan and Philip Robins on behalf of Mitchell Robins, Garden City, New York, Court of Federal Claims No: 10-0096V.

487. Peter G. Breton, Woburn, Massachusetts, Court of Federal Claims No: 10-0097V.

488. Douglas Wayne Williams, Meridian, Mississippi, Court of Federal Claims No: 10-0098V.

489. Allison Buckmelter, Beverly Hills, California, Court of Federal Claims No: 10-0099V.

490. Katherine McKellar, Boston, Massachusetts, Court of Federal Claims No: 10-0100V.

491. Erin Silva, Lancaster, California, Court of Federal Claims No: 10-0101V.

492. Maritza Braun on behalf of Jacob Braun, Las Vegas, Nevada, Court of Federal Claims No: 10-0102V.

493. Lisa Ericzon on behalf of Jessica Ericzon, Clayton, New York, Court of Federal Claims No: 10-0103V.

494. Adrian Magerfleisch on behalf of Danielle Magerfleisch, Cummings, Georgia, Court of Federal Claims No: 10-0104V.

495. Chris N. Wilks, Little Rock, Arkansas, Court of Federal Claims No: 10-0107V.

496. Whitney Mixter, New York, New York, Court of Federal Claims No: 10-0108V.

497. Glenn Nilsen, Bayshore, New York, Court of Federal Claims No: 10-0110V.

498. Susan and Philip Robins on behalf of Mitchell Robins, Garden City, New York, Court of Federal Claims No: 10-0112V.

499. Leigh A. and Frank McAlhany on behalf of Erin Grace McAlhany, Charleston, South Carolina, Court of Federal Claims No: 10-0114V.

500. Laurel Harris, Raleigh, North Carolina, Court of Federal Claims No: 10-0116V.

501. Kinetha Rayburn on behalf of Amber Rayburn, Lexington, Kentucky, Court of Federal Claims No: 10-0117V.

502. Lauri and Scott Peterson on behalf of Robert S. Peterson, Bloomington, Minnesota, Court of Federal Claims No: 10-0119V.

503. Susie and Dan W. Knight on behalf of Angelique Knight, Hutto, Texas, Court of Federal Claims No: 10-0122V.

504. Cheri Green on behalf of Joseph Beatty, Lexington, Kentucky, Court of Federal Claims No: 10-0123V.

505. Rebecca A. Sanchez, Fort Collins, Colorado, Court of Federal Claims No: 10-0124V.

506. Lee Allen, Pasadena, California, Court of Federal Claims No: 10-0129V.

507. Tonie E. and Ronald S. Hall on behalf of P. H., Valdosta, Georgia, Court of Federal Claims No: 10-0130V.

508. Francesca Miceli on behalf of Marguerite Miceli, Newington, Connecticut, Court of Federal Claims No: 10-0131V.

509. Elsie Lippard, Statesville, North Carolina, Court of Federal Claims No: 10-0132V.

510. Flor Hernandez on behalf of Emely Irene Hernandez, Minneapolis, Minnesota, Court of Federal Claims No: 10-0133V.

511. Elizabeth Shapiro, San Mateo, California, Court of Federal Claims No: 10-0136V.

512. Chari and Matthew Lehan on behalf of Mason Lehan, Shorewood, Illinois, Court of Federal Claims No: 10-0137V.

513. Marianne Ferretti on behalf of Patricia Ferretti, Exeter, Pennsylvania, Court of Federal Claims No: 10-0139V.

514. Lauren Sarnelli, East Rockaway, New York, Court of Federal Claims No: 10-0142V.

515. Alan P. Klein, Albany, Minnesota, Court of Federal Claims No: 10-0143V.

516. Dianne Winberg, Longmont, Colorado, Court of Federal Claims No: 10-0145V.

517. John F. Gijanto, Granville, New York, Court of Federal Claims No: 10-0146V.

518. Amanda Ratner, Great Neck, New York, Court of Federal Claims No: 10-0150V.

519. Todd Reeder, Salt Lake City, Utah, Court of Federal Claims No: 10-0151V.

520. Linda Herrera, Woodland, California, Court of Federal Claims No: 10-0159V.

521. John G. Rupert, Kansas City, Missouri, Court of Federal Claims No: 10-0160V.

522. Tanya L. Stewart on behalf of A. A. S., Gastonia, North Carolina, Court of Federal Claims No: 10-0161V.

523. Jodi Galeotafiore on behalf of Shaina Galeotafiore, Port Jefferson, New York, Court of Federal Claims No: 10-0168V.

524. Lynda Curren on behalf of Reese Tower, Bakersfield, California, Court of Federal Claims No: 10-0169V.

525. Gretchen and Richard Moeller on behalf of Charles James Busalacchi, Deceased, Vienna, Virginia, Court of Federal Claims No: 10-0171V.

526. Janice and Scott Moss on behalf of Andrew Moss, Dallas, Texas, Court of Federal Claims No: 10-0172V.

527. Bobby D. Rogers, Phoenix, Arizona, Court of Federal Claims No: 10-0173V.

528. Teri Collins on behalf of Amber Kauttman, Deceased, Cape Girardeau, Missouri, Court of Federal Claims No: 10-0175V.

529. Brandie and Mitchell Barcus on behalf of Connor Barcus, Coshocton, Ohio, Court of Federal Claims No: 10-0184V.

530. Sarah and Ronald Smith on behalf of Dylan Smith, Kannapolis, North Carolina, Court of Federal Claims No: 10-0185V.

531. Tommy Morgan, Mount Vernon, Illinois, Court of Federal Claims No: 10-0186V.

532. Carlie Crowell, Fairfield, California, Court of Federal Claims No: 10-0190V.

533. Elaina S. Foley, Oak Harbor, Washington, Court of Federal Claims No: 10-0196V.

534. Heather Lomeli on behalf of Alysia Ibarra, Brighton, Colorado, Court of Federal Claims No: 10-0197V.

535. Yalitza Valle on behalf of Luciano Jimenez, Sarasota, Florida, Court of Federal Claims No: 10-0198V.

536. Jessica Bermudez, Wellesley, Massachusetts, Court of Federal Claims No: 10-0206V.

537. Lisa A. Bray, Charlestown, Massachusetts, Court of Federal Claims No: 10-0207V.

538. Nelson B. Wilson, Nowata, Oklahoma, Court of Federal Claims No: 10-0208V.

539. Mary Louise Jennings, Ottumwa, Iowa, Court of Federal Claims No: 10-0209V.

540. Phyllis Chapnick, Northbrook, Illinois, Court of Federal Claims No: 10-0210V.

541. Patricia and Todd Fokken on behalf of Caitlin Fokken, Somers Point, New Jersey, Court of Federal Claims No: 10-0211V.

542. Phillipa Sheard and Howard Sheard on behalf of Howard Louis Sheard, III, Yorktown Heights, New York, Court of Federal Claims No: 10-0212V.

543. Paul Williams, Cooperstown, New York, Court of Federal Claims No: 10-0216V.

544. Tracy Wolf on behalf of Alexis Wolf, Albuquerque, New Mexico, Court of Federal Claims No: 10-0220V.

545. Meghan Wright, Burnsville, Minnesota, Court of Federal Claims No: 10-0222V.

546. Susan Williamsen, La Verne, California, Court of Federal Claims No: 10-0223V.

547. Charese Bentley, Dallas, Texas, Court of Federal Claims No: 10-0240V.

548. Erica Fester on behalf of B. A. B., Sanford, North Carolina, Court of Federal Claims No: 10-0243V.

549. Julie A. Coddington, Columbus, Ohio, Court of Federal Claims No: 10-0245V.

550. Patricia Wansaw on behalf of Savanna Schlauch, Forked River, New Jersey, Court of Federal Claims No: 10-0246V.

551. Kirk Ortegren on behalf of Jack Ortegren, Hastings, Nebraska, Court of Federal Claims No: 10-0247V.

552. Emily Tarsell on behalf of Christina Tarsell, Deceased, Baltimore, Maryland, Court of Federal Claims No: 10-0251V.

553. Alina Krikorian, Pasadena, California, Court of Federal Claims No: 10-0253V.

554. Firas Maayah, Moreno Valley, California, Court of Federal Claims No: 10-0254V.

555. William Bruce Tompkins on behalf of William Bruce Tompkins, Deceased, San Diego, California, Court of Federal Claims No: 10-0261V.

556. Crissey Meeks, Raleigh, North Carolina, Court of Federal Claims No: 10-0262V.

557. Rebecca Carter, Fredericksburg, Virginia, Court of Federal Claims No: 10-0265V.

558. Darlene Klien, Ann Arbor, Michigan, Court of Federal Claims No: 10-0266V.

559. Lorene Gibson, Steamboat Springs, Colorado, Court of Federal Claims No: 10-0267V.

560. Leah and Blake Wilcox on behalf of Alexander Grey Wilcox, Allentown, Pennsylvania, Court of Federal Claims No: 10-0268V.

561. Michael Rowan on behalf of N. R., Latham, New York, Court of Federal Claims No: 10-0272V.

562. Juliet R. LeMaster, Chillicothe, Ohio, Court of Federal Claims No: 10-0273V.

563. Linda Harris, Plymouth Township, Michigan, Court of Federal Claims No: 10-0275V.

564. Josef Schreick, Amagansett, New York, Court of Federal Claims No: 10-0278V.

565. Melissa and David Hernandez on behalf of Caleb Hernandez, Pearland, Texas, Court of Federal Claims No: 10-0279V.

566. Chad Michael Kinart on behalf of Liam Michael Kinart, Omaha, Nebraska, Court of Federal Claims No: 10-0282V.

567. Daryl D. Hoffman, Fort Knox, Kentucky, Court of Federal Claims No: 10-0287V.

568. Melinda Gustin on behalf of Jessie Webb, Madison, Alabama, Court of Federal Claims No: 10-0288V.

569. Edda M. Gonzalez on behalf of Guadalupe G. Gonzalez, Naperville, Illinois, Court of Federal Claims No: 10-0292V.

570. Christiana and Richard Nelson on behalf of Avery Nelson, West Grove, New Jersey, Court of Federal Claims No: 10-0293V.

571. Jeremy S. Towne, York, Maine, Court of Federal Claims No: 10-0294V.

572. Thelma B. Stamper, Richmond, Virginia, Court of Federal Claims No: 10-0295V.

573. Pamela Ballard on behalf of K. M. B., Wheaton, Illinois, Court of Federal Claims No: 10-0296V.

574. Pamela Ballard on behalf of B. M. B., Wheaton, Illinois, Court of Federal Claims No: 10-0297V.

575. Kylie Wayman, Fort Smith, Arkansas, Court of Federal Claims No: 10-0302V.

576. Elaine and Anthony Lewis on behalf of Anthony Dwayne Lewis, Jr., Hartsville, South Carolina, Court of Federal Claims No: 10-0304V.

577. Jacklyn G. Riggs, Reno, Nevada, Court of Federal Claims No: 10-0305V.

578. Maegan Ford, North Haledon, New Jersey, Court of Federal Claims No: 10-0307V.

579. Chris Sandy and Phillip Sandy on behalf of S. S., Milton, Florida, Court of Federal Claims No: 10-0308V.

580. Chris Sandy and Phillip Sandy on behalf of S. S., Milton, Florida, Court of Federal Claims No: 10-0309V.

581. James Spurgetis on behalf of Jacob Hollis Cottier, Spokane, Washington, Court of Federal Claims No: 10-0313V.

582. Leo B. Dubler, Woodbury, New Jersey, Court of Federal Claims No: 10-0314V.

583. Kay Waddell on behalf of Hayden Waddell, Anchorage, Alaska, Court of Federal Claims No: 10-0316V.

584. Kenneth L. Wiggins, Walla Walla, Washington, Court of Federal Claims No: 10-0317V.

585. Yvonne Harris on behalf of Khonstince Couch, Brinkley, Arkansas, Court of Federal Claims No: 10-0322V.

586. Linda S. Phillips on behalf of Thomas Aden Phillips, Deceased, Beckley, West Virginia, Court of Federal Claims No: 10-0323V.

587. Jacquelyne Warrick on behalf of Arleigh Warrick, Ocean Springs, Mississippi, Court of Federal Claims No: 10-0324V.

588. Gerald Gifford, Haverhill, Massachusetts, Court of Federal Claims No: 10-0325V.

589. Jennifer Engling, Milwaukee, Wisconsin, Court of Federal Claims No: 10-0326V.

590. Sarah Davidson, Bedford, New Hampshire, Court of Federal Claims No: 10-0327V.

591. Mary Samsom on behalf of Danielle Sousani, Deceased, Las Vegas, Nevada, Court of Federal Claims No: 10-0328V.

592. Christos Chalogias, Lebanon, New Hampshire, Court of Federal Claims No: 10-0329V.

593. Haley Leanne Griffin (ne Fowler), Anniston, Alabama, Court of Federal Claims No: 10-0330V.

594. Kelly E. McFarland, Leesburg, Virginia, Court of Federal Claims No: 10-0331V.

595. Domingo Martinez, Pleasanton, Texas, Court of Federal Claims No: 10-0333V.

596. Marta Svitelova and Robert McEvoy on behalf of Henry McEvoy, Chappaqua, New York, Court of Federal Claims No: 10-0337V.

597. Adele Young, Casper, Wyoming, Court of Federal Claims No: 10-0340V.

598. Jessica Diane Mayes, State College, Pennsylvania, Court of Federal Claims No: 10-0341V.

599. Jose Manuel Escalante, Plainview, Texas, Court of Federal Claims No: 10-0342V.

600. Stephanie Kramer, Middletown, New York, Court of Federal Claims No: 10-0343V.

601. Duane A. Schweitz, Seneca Falls, New York, Court of Federal Claims No: 10-0344V.

602. Sandra Ponder, Portsmouth, Virginia, Court of Federal Claims No: 10-0345V.

603. Megan E. Homolka on behalf of Kaden Homolka, Panora, Iowa, Court of Federal Claims No: 10-0348V.

604. Karen Maynor on behalf of Megan Hill, Deceased, Albuquerque, New Mexico, Court of Federal Claims No: 10-0349V.

605. Laura La Joie and Bo Allan Crosby on behalf of Alexis Crosby, Deceased, Boston, Massachusetts, Court of Federal Claims No: 10-0350V.

606. Jill Turkupolis, Indianapolis, Indiana, Court of Federal Claims No: 10-0351V.

607. Catherine and Patrick Labarre on behalf of Pierre Labarre, New York, New York, Court of Federal Claims No: 10-0352V.

608. Catherine and Patrick Labarre on behalf of Pierre Labarre, New York, New York, Court of Federal Claims No: 10-0353V.

609. Mosca Flint, Richmond, Virginia, Court of Federal Claims No: 10-0354V.

610. Sandra Steinberg on behalf of Isaiah Steinberg, Deceased, Patchogue, New York, Court of Federal Claims No: 10-0356V.

611. Yaketha Brown on behalf of Miracle Jenkins, Americus, Georgia, Court of Federal Claims No: 10-0360V.

612. Diane Pollard on behalf of Paul A. Pollard, Jr., Deceased, Lynchburg, Virginia, Court of Federal Claims No: 10-0361V.

613. Judy Quant and John Austin on behalf of Crystal Austin, Kittanning, Pennsylvania, Court of Federal Claims No: 10-0362V.

614. Larry Stoelzing, Fraser, Colorado, Court of Federal Claims No: 10-0363V.

615. Bette Kimbell on behalf of Rex Kimbell, Clovis, New Mexico, Court of Federal Claims No: 10-0364V.

616. Carina Baird and James Baird on behalf of Aidan Baird, San Francisco, California, Court of Federal Claims No: 10-0365V.

617. Lisel Laloux on behalf of Ashley Laloux, Deceased, Terre Haute, Indiana, Court of Federal Claims No: 10-0367V.

618. Timothy Abbott, Great Lakes, Illinois, Court of Federal Claims No: 10-0369V.

619. Michelle Gould, Philadelphia, Pennsylvania, Court of Federal Claims No: 10-0372V.

620. Jillian Kamkim on behalf of Jaydon Caesar, Leesburg, Florida, Court of Federal Claims No: 10-0373V.

621. Christian Woessner, Sugarland, Texas, Court of Federal Claims No: 10-0376V.

622. Lisa Woods and Jason Ford on behalf of Cason Eugene Ford, Chattanooga, Tennessee, Court of Federal Claims No: 10-0377V.

623. Tzipora Fisch and Zvi Fisch on behalf of Dov Fisch, Brooklyn, New York, Court of Federal Claims No: 10-0382V.

624. Leah F. and Bobby D. Wilson on behalf of Molly Wilson, Benton, Arkansas, Court of Federal Claims No: 10-0386V.

625. Althria D. Berry, Houston, Texas, Court of Federal Claims No: 10-0388V.

626. Brittney D. Fiste, Vandalia, Ohio, Court of Federal Claims No: 10-0390V.

627. Lesley Lutkowski, Philadelphia, Pennsylvania, Court of Federal Claims No: 10-0391V.

628. Noel Jodoin and Adam Jodoin, Dover, New Hampshire, Court of Federal Claims No: 10-0392V.

629. Laura Oliver and Eddie Oliver, Jr. on behalf of Eddie L. Oliver, III, Vienna, Virginia, Court of Federal Claims No: 10-0394V.

630. Ryan Gantz on behalf of Hannah Gantz, Norman, Oklahoma, Court of Federal Claims No: 10-0395V.

631. Shea Kylie Sullivan, Tustin, California, Court of Federal Claims No: 10-0398V.

632. Rory Desa, Atlanta, Georgia, Court of Federal Claims No: 10-0406V.

633. David Joseph Polcik, Arcadia, Florida, Court of Federal Claims No: 10-0407V.

634. Tanya and Richard Mesa on behalf of R. M., Humble, Texas, Court of Federal Claims No: 10-0408V.

635. Geraldine F. Hughes, Cambridge, Maryland, Court of Federal Claims No: 10-0409V.

636. Sheela Blackburn, Magna, Utah, Court of Federal Claims No: 10-0410V.

637. Carl Maddox, Lepanto, Arkansas, Court of Federal Claims No: 10-0411V.

638. Mark Roberts, Washington, District of Columbia, Court of Federal Claims No: 10-0412V.

639. Ted Boykin, Overland Park, Kansas, Court of Federal Claims No: 10-0413V.

640. Gwenette Patterson, Stockbridge, Georgia, Court of Federal Claims No: 10-0414V.

641. Emma McGhee, Jacksboro, Tennessee, Court of Federal Claims No: 10-0417V.

642. Edward J. Dlugolenski, Hartford, Connecticut, Court of Federal Claims No: 10-0418V.

643. Stewart Clay, Long Beach, California, Court of Federal Claims No: 10-0419V.

644. Lorena Rugh on behalf of Maryah Rugh, Kingman, Arizona, Court of Federal Claims No: 10-0421V.

645. Alicia Acken Cosgrove on behalf of Kenneth Cosgrove, Hudson, Wisconsin, Court of Federal Claims No: 10-0423V.

646. Lorenzo E. Dominguez, Albuquerque, New Mexico, Court of Federal Claims No: 10-0424V.

647. Mark A. Wilson, Statesville, North Carolina, Court of Federal Claims No: 10-0425V.

648. Terry Pounders, Lauderdale, Alabama, Court of Federal Claims No: 10-0429V.

649. Irene Hardy, Newport Coast, California, Court of Federal Claims No: 10-0430V.

650. Doreen Devou, Portland, Maine, Court of Federal Claims No: 10-0433V.

651. Emily Konkol, Madison, Wisconsin, Court of Federal Claims No: 10-0437V.

652. Vickie L. Scott on behalf of Billy J. Scott, Clarksburg, West Virginia, Court of Federal Claims No: 10-0438V.

653. Jamie Miller on behalf of Lisa Miller, Knoxville, Tennessee, Court of Federal Claims No: 10-0439V.

654. Ruth W. Munford, Elizabethtown, North Carolina, Court of Federal Claims No: 10-0440V.

655. Beverly Webb, Frederick, Maryland, Court of Federal Claims No: 10-0441V.

656. Jeffrey Albert Demchuk, Green Valley, Arizona, Court of Federal Claims No: 10-0442V.

657. Kayla Stacy, Wapakoneta, Ohio, Court of Federal Claims No: 10-0449V.

658. Theodore A. Ogle, Jr., Madison, Ohio, Court of Federal Claims No: 10-0450V.

659. Cody Jackson, St. Louis, Missouri, Court of Federal Claims No: 10-0453V.

660. Bobette Dorre on behalf of David Dorre, Deceased, Gobels, Michigan, Court of Federal Claims No: 10-0462V.

661. Joan Miller, Smithtown, New York, Court of Federal Claims No: 10-0464V.

662. LaTia Graham, Shawnee, Oklahoma, Court of Federal Claims No: 10-0468V.

663. Ileana Rodriguez-Morales on behalf of Michael Torres Rodriguez, Guayanilla, Puerto Rico, Court of Federal Claims No: 10-0469V.

664. Bei Ye Liang and Feng Liang on behalf of Edward Liang, Portland, Oregon, Court of Federal Claims No: 10-0474V.

665. Jim Craner and Sarah Craner on behalf of Macy Craner, Littleton, Colorado, Court of Federal Claims No: 10-0475V.

666. Samantha Y. Wilson on behalf of Sania D. Wilson, Troy, Michigan, Court of Federal Claims No: 10-0483V.

667. Sallyann Jocksberger, Rockledge, Florida, Court of Federal Claims No: 10-0485V.

668. Joshua Smith, Tifton, Georgia, Court of Federal Claims No: 10-0486V.

669. Amanda Foster, Charleston, West Virginia, Court of Federal Claims No: 10-0487V.

670. Valeria Flores, Chicago, Illinois, Court of Federal Claims No: 10-0489V.

671. Richard Pugh, Palm Beach, Florida, Court of Federal Claims No: 10-0490V.

672. Chandra Hiland on behalf of Lillyen Hiland, Deceased, Kalispell, Montana, Court of Federal Claims No: 10-0491V.

673. Yolanda Mazurek on behalf of Quentin Mazurek, Colorado Springs, Colorado, Court of Federal Claims No: 10-0493V.

674. Terry Raines, Los Lunas, New Mexico, Court of Federal Claims No: 10-0494V.

675. Kenneth Duesing, Cincinnati, Ohio, Court of Federal Claims No: 10-0497V.

676. Rose Scott, Sacramento, California, Court of Federal Claims No: 10-0498V.

677. Jose Montoya, El Paso, Texas, Court of Federal Claims No: 10-0499V.

678. Carole Prystalski, Dyer, Indiana, Court of Federal Claims No: 10-0500V.

679. Donn Hashimoto, Hilo, Hawaii, Court of Federal Claims No: 10-0501V.

680. Tammy Barrineau, Albertville, Alabama, Court of Federal Claims No: 10-0502V.

681. Barbara Olund and Curt Olund on behalf of Alicia Olund, Hayward, California, Court of Federal Claims No: 10-0505V.

682. Tammy Hill on Behalf of Holton Helms, Dothan, Alabama, Court of Federal Claims No: 10-0506V.

683. Mary McGehee, Bedford, Texas, Court of Federal Claims No: 10-0513V.

684. Nancy Bohlander, Cheyenne, Wyoming, Court of Federal Claims No: 10-0514V.

685. Kristiyana D. Smith, Livermore, California, Court of Federal Claims No: 10-0515V.

686. Jane and Ronald Vanoost on behalf of R. V., Frankfort, Illinois, Court of Federal Claims No: 10-0516V.

687. Kim and Frank Falcone on behalf of Kayliegh Falcone, Wallingford, Connecticut, Court of Federal Claims No: 10-0517V.

688. Ed Poche, Helena, Alabama, Court of Federal Claims No: 10-0518V.

689. Rene G. Powers on behalf of Martin Powers, East Meadow, New York, Court of Federal Claims No: 10-0519V.

690. James McGrath, Springfield, Illinois, Court of Federal Claims No: 10-0520V.

691. Judith Cassandro-Green, New Hyde Park, New York, Court of Federal Claims No: 10-0522V.

692. Eleanoure Smith, North Fort Myers, Florida, Court of Federal Claims No: 10-0523V.

693. Cynthia Chalifour, Marblehead, Massachusetts, Court of Federal Claims No: 10-0524V.

694. William Blatt, Commack, New York, Court of Federal Claims No: 10-0526V.

695. John Windmon, Oak Park, Illinois, Court of Federal Claims No: 10-0527V.

696. Darleen Dohm, Mandeville, Louisiana, Court of Federal Claims No: 10-0529V.

697. Kim and Dan Chitwood on behalf of Taylor Chitwood, Fort Wayne, Indiana, Court of Federal Claims No: 10-0534V.

698. Donna Ridgway, Columbus, Ohio, Court of Federal Claims No: 10-0539V.

699. Jocelyn Campo, Greenville, South Carolina, Court of Federal Claims No: 10-0543V.

700. Jay D. Priefert, Omaha, Nebraska, Court of Federal Claims No: 10-0544V.

701. Allison Renee Wade and Jeffery Todd Wade on behalf of Dawson Todd Wade, Florence, Alabama, Court of Federal Claims No: 10-0545V.

702. Dessa Staboleski, Troy, Pennsylvania, Court of Federal Claims No: 10-0549V.

703. Judy Banko, Fort Lauderdale, Florida, Court of Federal Claims No: 10-0550V.

704. Carey Neal, San Antonio, Texas, Court of Federal Claims No: 10-0551V.

705. Katelyn Speakman, Gahanna, Ohio, Court of Federal Claims No: 10-0552V.

706. Peter Dassenko, Minot, North Dakota, Court of Federal Claims No: 10-0554V.

707. Marie Chervanick, South Bend, Indiana, Court of Federal Claims No: 10-0559V.

708. Rosa and Robert Cox on behalf of Kaitlyn Cox, Montgomery, Alabama, Court of Federal Claims No: 10-0561V.

709. David Troester, La Crosse, Wisconsin, Court of Federal Claims No: 10-0562V.

710. Nancy and Jeffrey Turley on behalf of D. T., Auburn, Washington, Court of Federal Claims No: 10-0563V.

711. Daniel Funk, Redmond, Washington, Court of Federal Claims No: 10-0564V.

712. Megan L. Godfrey, Tuscaloosa, Alabama, Court of Federal Claims No: 10-0565V.

713. Susan and Robert DiMatteo on behalf of R. D., Nanuet, New York, Court of Federal Claims No: 10-0566V.

714. Jeff Long, Thornton, Colorado, Court of Federal Claims No: 10-0570V.

715. Primitivo Suarez-Wolfe and Ginger Wolfe-Suarez on behalf of Inigo Wolfe-Suarez, Berkeley, California, Court of Federal Claims No: 10-0572V.

716. Aileen Snyder, Farmington Hills, Michigan, Court of Federal Claims No: 10-0573V.

717. Cori Klug, Broomfield, Colorado, Court of Federal Claims No: 10-0574V.

718. Jose Concepcion, Chicago, Illinois, Court of Federal Claims No: 10-0576V.

719. Morgan A. Johnson, Upland, California, Court of Federal Claims No: 10-0578V.

720. Taffie Brown on behalf of Brandon Cole, Lake Jackson, Texas, Court of Federal Claims No: 10-0579V.

721. Brandy Hathaway, Hillsboro, Oregon, Court of Federal Claims No: 10-0581V.

722. Lindsey C. Wev, Galveston, Texas, Court of Federal Claims No: 10-0582V.

723. Charles David Umbarger, Richmond, Virginia, Court of Federal Claims No: 10-0584V.

724. Danielle Nicosia, Garden City, New York, Court of Federal Claims No: 10-0586V.

725. Jessica Lyn Grady on behalf of Landin V. Jordan, St. Charles, Missouri, Court of Federal Claims No: 10-0590V.

726. Arthur Cline, Traverse City, Michigan, Court of Federal Claims No: 10-0596V.

727. Sergio Biagi on behalf of Derek Biagi, Santa Barbara, California, Court of Federal Claims No: 10-0597V.

728. Sally Kools, St. Petersburg, Florida, Court of Federal Claims No: 10-0601V.

729. Joe O. Martin, Livingston, Tennessee, Court of Federal Claims No: 10-0605V.

730. Thomas Ciccarone, New Fairfield, Connecticut, Court of Federal Claims No: 10-0606V.

731. Robert Cattaneo, Boston, Massachusetts, Court of Federal Claims No: 10-0607V.

732. Ronald Blocker and Kara Krause on behalf of Peyton Krause, Deceased, Waldorf, Maryland, Court of Federal Claims No: 10-0608V.

733. Nicolette Santino, Boston, Massachusetts, Court of Federal Claims No: 10-0609V.

734. Peter Cieszewski, Athens, Georgia, Court of Federal Claims No: 10-0610V.

735. Rosemary DiLascio on behalf of Matthew DiLascio, Mineola, New York, Court of Federal Claims No: 10-0611V.

736. Adam J. Juzapavicus, St. Augustine, Florida, Court of Federal Claims No: 10-0612V.

737. Deborah E. Bradley, Hinesville, Georgia, Court of Federal Claims No: 10-0613V.

738. Katie Mae Wenger, Dover, Ohio, Court of Federal Claims No: 10-0614V.

739. Melissa Davis and Cecil Davis, Sr. on behalf of Cecil Davis, Jr., Bentonville, Arkansas, Court of Federal Claims No: 10-0615V.

740. Marian Nelson, Valencia, California, Court of Federal Claims No: 10-0619V.

741. Barbara Potocic, as Personnal Representative of the Estate of Drago Potocic, Lake, Ohio, Court of Federal Claims No: 10-0620V.

742. Deanna and Kenny Vasquez on behalf of Brianna Vasquez, Marietta, Georgia, Court of Federal Claims No: 10-0621V.

743. Rosalind La Mar, Plainview, New York, Court of Federal Claims No: 10-0622V.

744. John Pasmore, Jonesboro, Arkansas, Court of Federal Claims No: 10-0623V.

745. Leslie and Michael Haddad on behalf of Miranda Haddad, Manalapan, New Jersey, Court of Federal Claims No: 10-0626V.

746. Gary Dubin, Elkins Park, Pennsylvania, Court of Federal Claims No: 10-0632V.

747. Nancy D'Addio on behalf of Edward D'Addio, Deceased, New Windsor, New York, Court of Federal Claims No: 10-0634V.

748. Linda Watkins, Lafayette, Louisiana, Court of Federal Claims No: 10-0636V.

749. Wesley F. Vines, Oak Ridge, Tennessee, Court of Federal Claims No: 10-0637V.

750. Ann Roberts on behalf of Michael D. Roberts, McPherson, Kansas, Court of Federal Claims No: 10-0639V.

751. Christine Hippo, Margate, Florida, Court of Federal Claims No: 10-0642V.

752. Robert Lawrence, Glen Falls, New York, Court of Federal Claims No: 10-0643V.

753. Karah Naylor on behalf of Briley Naylor, McPherson, Kansas, Court of Federal Claims No: 10-0644V.

754. Judith A. Heubner, Orange Park, Florida, Court of Federal Claims No: 10-0649V.

755. Sarah Toor, Yorba Linda, California, Court of Federal Claims No: 10-0650V.

756. Dean Paul Wallin, Duluth, Minnesota, Court of Federal Claims No: 10-0651V.

757. Stephen D. Hatfield, Louisville, Kentucky, Court of Federal Claims No: 10-0652V.

758. Wilbur Branaugh, Union City, California, Court of Federal Claims No: 10-0654V.

759. Maria Perez, Miami, Florida, Court of Federal Claims No: 10-0659V.

760. Robert J. Portier, Baton Rouge, Louisiana, Court of Federal Claims No: 10-0665V.

761. Stephanie and Jeremy Johnson on behalf of Madyson Johnson, Opelousas, Louisiana, Court of Federal Claims No: 10-0666V.

762. Evgeniya Kim on behalf of Valarie Reinsalu, New Brunswick, New Jersey, Court of Federal Claims No: 10-0668V.

763. Alex B. Kenzora, Martins Ferry, Ohio, Court of Federal Claims No: 10-0669V.

764. Juanita Sparrow, Philadelphia, Pennsylvania, Court of Federal Claims No: 10-0671V.

765. Luke G. Anderson, Irvine, California, Court of Federal Claims No: 10-0672V.

766. Peggy Sanders-Redmiles, Duchesne, Utah, Court of Federal Claims No: 10-0685V.

767. Lois J. Banks, Wakefield, Rhode Island, Court of Federal Claims No: 10-0686V.

768. Amber Cornelison, Duluth, Minnesota, Court of Federal Claims No: 10-0687V.

769. Francis Kravetz, Palmerton, Pennsylvania, Court of Federal Claims No: 10-0688V.

770. Shelley Taylor on behalf of B. T., Memphis, Tennessee, Court of Federal Claims No: 10-0689V.

771. Albert S. Len, Charlotte, North Carolina, Court of Federal Claims No: 10-0691V.

772. Concetta Azzaro, Kansas City, Missouri, Court of Federal Claims No: 10-0692V.

773. Michael J. Katzmark, Waterbury, Connecticut, Court of Federal Claims No: 10-0693V.

774. Edem A. Omon, Lawrence, Kansas, Court of Federal Claims No: 10-0699V.

775. Carol Anderson on behalf of Carson Anderson, Minneapolis, Minnesota, Court of Federal Claims No: 10-0700V.

776. Rebecca Nicole Morrison, Mountain View, Arizona, Court of Federal Claims No: 10-0703V.

777. Kimberly and Tyson Faoro on behalf of Hannah Elizabeth Faoro, Oskaloosa, Iowa, Court of Federal Claims No: 10-0704V.

778. Melissa and Dennis Rush and Placko on behalf of Paige Rush-Placko, Harleysville, Pennsylvania, Court of Federal Claims No: 10-0705V.

779. Philip Steahl, St. Louis Park, Minnesota, Court of Federal Claims No: 10-0710V.

780. Courtney Goldin, Fort Myers, Florida, Court of Federal Claims No: 10-0711V.

781. Mike Shriver and Laura Shriver on behalf of Alexander J. Shriver, Lincoln, Nebraska, Court of Federal Claims No: 10-0713V.

782. Julie and William J. Schwind on behalf of Adam Christopher Schwind, Tucson, Arizona, Court of Federal Claims No: 10-0715V.

783. Ronni and Christopher Kollasch on behalf of Quinn Kollasch, Bloomington, Minnesota, Court of Federal Claims No: 10-0717V.

784. James Fred Coakley, Orem, Utah, Court of Federal Claims No: 10-0718V.

785. Eleanor Catherine Clifford, Janesville, Wisconsin, Court of Federal Claims No: 10-0719V.

786. Sandra J. Cort, Portland, Maine, Court of Federal Claims No: 10-0727V.

787. Paula J. Williams, Scottsdale, Arizona, Court of Federal Claims No: 10-0728V.

788. Tammy McKay, Andalusia, Alabama, Court of Federal Claims No: 10-0729V.

789. Richard J. Tanner, Rochester, New York, Court of Federal Claims No: 10-0732V.

790. Linda C. Blackstock, Clarksville, Virginia, Court of Federal Claims No: 10-0735V.

791. Stanley Rye, Waldorf, Maryland, Court of Federal Claims No: 10-0736V.

792. Tracy R. and Andrew D. Fricke on behalf of Nicholas A. Fricke, Spokane, Washington, Court of Federal Claims No: 10-0737V.

793. Loretta Floyd, Pullman, Virginia, Court of Federal Claims No: 10-0739V.

794. Leo Boylan, Fulton, New York, Court of Federal Claims No: 10-0740V.

795. Shermian P. Daniel, Jacksonville, Florida, Court of Federal Claims No: 10-0745V.

796. Rachelle Rudolph, Olathe, Kansas, Court of Federal Claims No: 10-0746V.

797. Laurie Roy on behalf of Jamie Roy, Manchester, New Hampshire, Court of Federal Claims No: 10-0747V.

798. Erin Fleming, Dedham, Massachusetts, Court of Federal Claims No: 10-0748V.

799. Tracie Brown, Boston, Massachusetts, Court of Federal Claims No: 10-0749V.

800. Stephanie Vino Figueroa Manny Figueroa, Deceased, South Miami, Florida, Court of Federal Claims No: 10-0750V.

801. Maria and Jose Ibarra on behalf of Susan Ibarra, Visalia, California, Court of Federal Claims No: 10-0752V.

802. Sarah Quigley, Warner Robins, Georgia, Court of Federal Claims No: 10-0756V.

803. Catherine and Dennis E. Flanagan on behalf of Dennis J. Flanagan, St. Paul, Minnesota, Court of Federal Claims No: 10-0759V.

804. Charla Lindsey-Crabbe and Russell Crabbe on behalf of Rory Crabbe, Kamuela, Hawaii, Court of Federal Claims No: 10-0762V.

805. Crystal L. Rhodes, Arkadelphia, Arkansas, Court of Federal Claims No: 10-0763V.

806. Vanessa Michelle Sova, Roseville, California, Court of Federal Claims No: 10-0764V.

807. Anne Imundo, Pittsburg, Pennsylvania, Court of Federal Claims No: 10-0765V.

808. Arthur Askew, Myrtle Beach, South Carolina, Court of Federal Claims No: 10-0767V.

809. Joen and David Meylor on behalf of Madelyne Meylor, Madison, Wisconsin, Court of Federal Claims No: 10-0770V.

810. Joen and David Meylor on behalf of Olivia Meylor, Madison, Wisconsin, Court of Federal Claims No: 10-0771V.

811. Jamie M. Balmes, Sahuarita, Arizona, Court of Federal Claims No: 10-0772V.

812. Whitney Mancino Phend, Washington, District of Columbia, Court of Federal Claims No: 10-0773V.

813. Maria Miranda on behalf of Adrian Miranda, Denver, Colorado, Court of Federal Claims No: 10-0776V.

814. John Hickman, San Francisco, California, Court of Federal Claims No: 10-0777V.

815. Thomas Kief, Bel Air, Maryland, Court of Federal Claims No: 10-0781V.

816. Joseph Maus, Danville, Pennsylvania, Court of Federal Claims No: 10-0782V.

817. Edward L. Barker, Jr., Paragould, Arizona, Court of Federal Claims No: 10-0783V.

818. Tabatha Fisher in behalf of Megan Fisher, Englewood, New Jersey, Court of Federal Claims No: 10-0784V.

819. Jada Tolson, Englewood, New Jersey, Court of Federal Claims No: 10-0785V.

820. J.E., Plainview, New York, Court of Federal Claims No: 10-0786V.

821. Ashley Ryburn, Ankeny, Iowa, Court of Federal Claims No: 10-0787V.

822. Christina Green and Bryan Green on behalf of N.G., Westminster, Maryland, Court of Federal Claims No: 10-0789V.

823. Sytun M. Baldwin, Pasadena, California, Court of Federal Claims No: 10-0790V.

824. Nikki L. Rigley, Camus, Washington, Court of Federal Claims No: 10-0795V.

825. Mojdeh Amani, Newport Beach, California, Court of Federal Claims No: 10-0796V.

826. Mark Whittlesey, Salt Lake City, Utah, Court of Federal Claims No: 10-0797V.

827. Jane and Alex Higdon on behalf of Aidon Higdon, Atlanta, Georgia, Court of Federal Claims No: 10-0798V.

828. Rose Vettese on behalf of Arthur Crespo, New York, New York, Court of Federal Claims No: 10-0799V.

829. Thomas Fyler, Sacramento, California, Court of Federal Claims No: 10-0800V.

830. Shannon Schrag on behalf of Shannon Swank, Wichita, Kansas, Court of Federal Claims No: 10-0801V.

831. James Seykora, Minot, North Dakota, Court of Federal Claims No: 10-0802V.

832. Dan Smith, Urbana, Illinois, Court of Federal Claims No: 10-0806V.

833. Angela B. and Anthony J. Hamby on behalf of Megan Lanee Hamby, Hickory, North Carolina, Court of Federal Claims No: 10-0807V.

834. Diane Carpenter, Guilford, Connecticut, Court of Federal Claims No: 10-0808V.

835. Rebecca and Randall Whitney on behalf of Schuyler Whitney, Dorr, Michigan, Court of Federal Claims No: 10-0809V.

836. David Helman, Iowa City, Iowa, Court of Federal Claims No: 10-0813V.

837. Miracle Morman, Somerville, Tennessee, Court of Federal Claims No: 10-0814V.

838. Gary Mears, Basalt, Colorado, Court of Federal Claims No: 10-0816V.

839. Jan M. Gaynor, Orlando, Florida, Court of Federal Claims No: 10-0817V.

840. Nona Roe and Arthur Roe on behalf of J.R., Mason, Michigan, Court of Federal Claims No: 10-0818V.

841. Kim Summers on behalf of Cassity Summers, Houston, Texas, Court of Federal Claims No: 10-0826V.

842. Lauren Shortnacy, Columbus, Georgia, Court of Federal Claims No: 10-0827V.

843. Phyllis Standish, Hackensack, New Jersey, Court of Federal Claims No: 10-0828V.

844. Christina and David Carter, Peoria, Illinois, Court of Federal Claims No: 10-0829V.

845. Margaret Clanton, Austin, Texas, Court of Federal Claims No: 10-0830V.

846. Brenda Day, East Chicago, Indiana, Court of Federal Claims No: 10-0833V.

847. Jacob J. Powell, Jasper, Tennessee, Court of Federal Claims No: 10-0834V.

848. Bethany Laroche, Boston, Massachusetts, Court of Federal Claims No: 10-0835V.

849. Steven Heye, Little Rock, Arkansas, Court of Federal Claims No: 10-0836V.

850. Ashley Stout, Morehead, Kentucky, Court of Federal Claims No: 10-0840V.

851. Manisha Banerjee and Sudip Ghosal on behalf of Ronok Ghosal, Mountain View, California, Court of Federal Claims No: 10-0841V.

852. Bethany Laroche, Boston, Massachusetts, Court of Federal Claims No: 10-0842V.

853. Stacey G. Williams, St. Louis, Missouri, Court of Federal Claims No: 10-0843V.

854. Leandra Rose Romero, Lodi, California, Court of Federal Claims No: 10-0846V.

855. Taquaria Williams, Flint, Michigan, Court of Federal Claims No: 10-0847V.

856. Thomas Dick, Beaver, West Virginia, Court of Federal Claims No: 10-0848V.

857. Pamela Ann Dillon, Morehead, Kentucky, Court of Federal Claims No: 10-0850V.

858. Margaret Nutt, Charleston, South Carolina, Court of Federal Claims No: 10-0862V.

859. Ashlyn Wetherell, Wilmington, North Carolina, Court of Federal Claims No: 10-0863V.

860. Michael Trainer, Spring House, Pennsylvania, Court of Federal Claims No: 10-0865V.

861. Janelle A. Seibold, Atlanta, Georgia, Court of Federal Claims No: 10-0866V.

862. Jessica Lee Johnson, Plantation, Florida, Court of Federal Claims No: 10-0867V.

863. Shannon and Ed O'Brien on behalf of Kyla Lily O'Brien, San Diego, California, Court of Federal Claims No: 10-0870V.

864. Lauren Philie on behalf of Charlotte Philie, Boston, Massachusetts, Court of Federal Claims No: 10-0871V.

865. Christina O'Quinn, Kingsport, Tennessee, Court of Federal Claims No: 10-0872V.

866. Christine Williquette on behalf of Josephine Williquette, Milwaukee, Wisconsin, Court of Federal Claims No: 10-0873V.

867. Edmund A. Escobar, El Paso, Texas, Court of Federal Claims No: 10-0874V.

868. George Hand, Columbia, Illinois, Court of Federal Claims No: 10-0875V.

869. Rachel Graf, St. Croix Falls, Wisconsin, Court of Federal Claims No: 10-0879V.

870. Gilbert Placencia, Seattle, Washington, Court of Federal Claims No: 10-0881V.

871. Valeria Watson, Coney Island, New York, Court of Federal Claims No: 10-0882V.

872. Amanda Howry on behalf of Levi Howry, Pequea, Pennsylvania, Court of Federal Claims No: 10-0888V.

873. Katy and Michael Garcia on behalf of Kylie Garcia, Albuquerque, New Mexico, Court of Federal Claims No: 10-0889V.

874. Diane Froelick, Charlotte, North Carolina, Court of Federal Claims No: 11-0001V.

875. Amy and Rick Owens on behalf of Tasha Owens, Rio Rancho, New Mexico, Court of Federal Claims No: 11-0002V.

876. Melissa Altmeyer on behalf of Madelyn Altmeyer, Sheboygan, Wisconsin, Court of Federal Claims No: 11-0003V.

877. Ysidro Moreno, Lake Havasu City, Arizona, Court of Federal Claims No: 11-0005V.

878. Ysidro Moreno, Lake Havasu City, Arizona, Court of Federal Claims No: 11-0008V.

879. James T. Holmes, III, on behalf of Catherina J. Holmes, Deceased, Boston, Massachusetts, Court of Federal Claims No: 11-0011V.

880. Evelyn Murphy on behalf of Marly Murphy, Cedar Park, Texas, Court of Federal Claims No: 11-0012V.

881. Ashley and Todd Hubbard on behalf of Jude Hubbard, Sellersburg, Indiana, Court of Federal Claims No: 11-0014V.

882. Catherine Staley, Somerville, Massachusetts, Court of Federal Claims No: 11-0015V.

883. Joni O'Conner, Vallejo, California, Court of Federal Claims No: 11-0016V.

884. Paul U. Quichocho, Vacaville, California, Court of Federal Claims No: 11-0018V.

885. Megan Lambing, Alexandria, Louisiana, Court of Federal Claims No: 11-0021V.

886. Walter Grosh, Hapeville, Georgia, Court of Federal Claims No: 11-0024V.

887. Maria Giunta, Boston, Massachusetts, Court of Federal Claims No: 11-0025V.

888. Rosamaria DeSimone, San Diego, California, Court of Federal Claims No: 11-0026V.

889. Susan O'Neill, Mount Prospect, Illinois, Court of Federal Claims No: 11-0027V.

890. H.G., Fort Lauderdale, Florida, Court of Federal Claims No: 11-0028V.

891. Irene Dennis, Lumberton, New Jersey, Court of Federal Claims No: 11-0029V.

892. Vasilios Papadopoulos, Boise, Idaho, Court of Federal Claims No: 11-0037V.

893. Mr. S. on behalf of Ms. S., Deceased, St. Paul, Minnesota, Court of Federal Claims No: 11-0040V.

894. Kristen Ridl on behalf of Sara Murdock, Bellingham, Washington, Court of Federal Claims No: 11-0041V.

895. Roslyn Hymel on Behalf of Casie Green, Mandeville, Louisiana, Court of Federal Claims No: 11-0044V.

896. Qiuyue Yu and Yangping Xu on behalf of Kyle Xu, Fishers, Indiana, Court of Federal Claims No: 11-0047V.

897. Pamela Myers, Folsom, California, Court of Federal Claims No: 11-0049V.

898. Nicole and Domah Brown on behalf of Aidan Brown, Woodbridge, Virginia, Court of Federal Claims No: 11-0050V.

899. Brett Allen, Piedmont, Alabama, Court of Federal Claims No: 11-0051V.

900. Merideth Kirkland, Glenview, Illinois, Court of Federal Claims No: 11-0057V.

901. Kerri and Cody Scheufler on behalf of Kash Scheufler, Wichita, Kansas, Court of Federal Claims No: 11-0058V.

902. Rosemary Taylor and Clara Jean Bertinelli on behalf of Mary Key, Henderson, Kentucky, Court of Federal Claims No: 11-0059V.

903. Mary Katherine Davison, Jefferson, Maryland, Court of Federal Claims No: 11-0060V.

904. Richard Clark, Glen Allen, Virginia, Court of Federal Claims No: 11-0061V.

905. Valeria Watson, Brooklyn, New York, Court of Federal Claims No: 11-0062V.

906. Andrea Botan on behalf of Evelyn Botan, San Antonio, Texas, Court of Federal Claims No: 11-0063V.

907. Jade W. Brewton, Lake Charles, Louisiana, Court of Federal Claims No: 11-0067V.

908. Victoria Ventimiglia, Philadelphia, Pennsylvania, Court of Federal Claims No: 11-0068V.

909. Jessica Nicole Young, Tomball, Texas, Court of Federal Claims No: 11-0069V.

910. Carol Jones, Boston, Massachusetts, Court of Federal Claims No: 11-0070V.

911. Stephanie and Daniel Christner on behalf of Victoria Christner, Tulsa, Oklahoma, Court of Federal Claims No: 11-0074V.

912. Sherril K. Stillwell, Downey, California, Court of Federal Claims No: 11-0077V.

913. Karen Anne Daddona, Doylestown, Pennsylvania, Court of Federal Claims No: 11-0079V.

914. Madison Harrington, Dallas, Texas, Court of Federal Claims No: 11-0083V.

915. Dhata R. Harris, Tallahassee, Florida, Court of Federal Claims No: 11-0085V.

916. Susan and Kyle Nickell on behalf of Emily Nickell, Hurst, Texas, Court of Federal Claims No: 11-0088V.

917. James Trunzo, Scranton, Pennsylvania, Court of Federal Claims No: 11-0093V.

918. Eleanor D. Hernandez, Forest, Virginia, Court of Federal Claims No: 11-0094V.

919. Scott Caldwell, Hattiesburg, Pennsylvania, Court of Federal Claims No: 11-0099V.

920. Michael Morgan, West Cherry Hill, New Jersey, Court of Federal Claims No: 11-0103V.

921. Winfred Eaton, Brownwood, Texas, Court of Federal Claims No: 11-0104V.

922. Terrie Ockmand, Harvey, Louisiana, Court of Federal Claims No: 11-0105V.

923. Carl J. Verity, Mineola, New York, Court of Federal Claims No: 11-0106V.

924. Janice Incze on behalf of Kristina Incze, Deceased, Oneonta, New York, Court of Federal Claims No: 11-0112V.

925. Karyn Libert, Commack, New York, Court of Federal Claims No: 11-0116V.

926. Bedford Boylston, Washington, District of Columbia, Court of Federal Claims No: 11-0117V.

927. Emily Wirt, Havertown, Pennsylvania, Court of Federal Claims No: 11-0118V.

928. Terrie East, Salem, South Carolina, Court of Federal Claims No: 11-0119V.

929. Linda Johnson, Baton Rouge, Louisiana, Court of Federal Claims No: 11-0120V.

930. Ernestine Quinn, Kansas City, Kansas, Court of Federal Claims No: 11-0121V.

931. Sheila Katrice Rhodes, Huntsville, Alabama, Court of Federal Claims No: 11-0122V.

932. Mariah Van Vessem, Patchogue, New York, Court of Federal Claims No: 11-0132V.

933. William Jeffrey Bishop, Ft. Sill, Oklahoma, Court of Federal Claims No: 11-0137V.

934. Wanda and David Jewell on behalf of Lindsey Jewell, Manassas, Virginia, Court of Federal Claims No: 11-0138V.

935. Sherry Salmins, Saddle Brook, New Jersey, Court of Federal Claims No: 11-0140V.

936. Ramanathan Pammanabhan and Krithika Srinivas on behalf of Ishaan Ramanathan Iyer, Danville, California, Court of Federal Claims No: 11-0141V.

937. Marc Mayer, Teaneck, New Jersey, Court of Federal Claims No: 11-0142V.

938. Glenn Knight, Pell City, Alabama, Court of Federal Claims No: 11-0143V.

939. Marvin Green, Red Lake, Minnesota, Court of Federal Claims No: 11-0144V.

940. Antonio Hernandez, Glendora, California, Court of Federal Claims No: 11-0145V.

941. Felix Santiago, Sarasota, Florida, Court of Federal Claims No: 11-0146V.

942. Lisa and Mark Villano, Shawnee on Delaware, Pennsylvania, Court of Federal Claims No: 11-0147V.

943. Maureen Rowe, Branchville, New Jersey, Court of Federal Claims No: 11-0150V.

944. Tracy Arakelian and Daren Arakelian on behalf of Charles Arakelian, Rensselaer, New York, Court of Federal Claims No: 11-0151V.

945. Donna and Bryan Quinones on behalf of Yvette R. Quinones, Selden, New York, Court of Federal Claims No: 11-0154V.

946. Amy M. Phillips-Davis and Robert V. Davis on behalf of Aidan L. Davis, Ogden, Utah, Court of Federal Claims No: 11-0156V.

947. Laurel Brishel Prichard, Albuquerque, New Mexico, Court of Federal Claims No: 11-0162V.

948. Harvey McBride, Butler, Mississippi, Court of Federal Claims No: 11-0164V.

949. Francis Nix, Paducah, Kentucky, Court of Federal Claims No: 11-0165V.

950. Kamali Saminathan, Tulsa, Oklahoma, Court of Federal Claims No: 11-0171V.

951. Theresa Jenerou, San Antonio, Texas, Court of Federal Claims No: 11-0173V.

952. Daniel Irwin, Melbourne, Florida, Court of Federal Claims No: 11-0174V.

953. Jose Luis Perez and Dina Vega on behalf of Angel Perez Vega, Lawrenceville, Georgia, Court of Federal Claims No: 11-0177V.

954. Richard E. Morris, Aberdeen Proving Ground, Maryland, Court of Federal Claims No: 11-0179V.

955. Rosalinda Cruz, Providence, Rhode Island, Court of Federal Claims No: 11-0183V.

956. Linda Orr, Sparta, Tennessee, Court of Federal Claims No: 11-0184V.

957. Paula A. Figel, New Martinsville, Ohio, Court of Federal Claims No: 11-0186V.

958. Laurel Bishop Prichard, Albuquerque, New Mexico, Court of Federal Claims No: 11-0192V.

959. Theresa Weitbrecht, Berlin, New Hampshire, Court of Federal Claims No: 11-0195V.

960. Tiana Tocio, Naples, Florida, Court of Federal Claims No: 11-0196V.

961. Shirley T. Wood on behalf of John Tate, Gainesville, Florida, Court of Federal Claims No: 11-0197V.

962. Taylor Bristow, Bozeman, Montana, Court of Federal Claims No: 11-0198V.

963. Shauni Rai Bracey on behalf of Kaylyn Jane Fischer, Pleasanton, Texas, Court of Federal Claims No: 11-0202V.

964. Frederick Parks and Stephanie Roscoe on behalf of Brianna Roscoe, Albany, Georgia, Court of Federal Claims No: 11-0206V.

965. Jamie Alexander and Trent Alvarez on behalf of Kynzie Alvarez, Stockton, California, Court of Federal Claims No: 11-0210V.

966. Jerry W. Emmons, Sr., Puyallup, Washington, Court of Federal Claims No: 11-0211V.

967. Paul Sam, Spokane, Washington, Court of Federal Claims No: 11-0213V.

968. Ruby Forte, Louisville, Kentucky, Court of Federal Claims No: 11-0214V.

969. Jeffrey David Simmons, Yakima, Washington, Court of Federal Claims No: 11-0216V.

970. Janelle Robinson, Lansing, Kansas, Court of Federal Claims No: 11-0218V.

971. Dudley Edwards, Sheridan, Wyoming, Court of Federal Claims No: 11-0219V.

972. Robert Finley, Michigan City, Indiana, Court of Federal Claims No: 11-0220V.

973. Scott Scharfenberger, Cincinnati, Ohio, Court of Federal Claims No: 11-0221V.

974. Debra Redman, Statesville, North Carolina, Court of Federal Claims No: 11-0222V.

975. Jennifer Coute-Marotta, Boston, Massachusetts, Court of Federal Claims No: 11-0225V.

976. Debbie Cook on Behalf of Kirstie Cook, Malone, New York, Court of Federal Claims No: 11-0226V.

977. Stephen Hamel on behalf of K. H., Phoenix, Arizona, Court of Federal Claims No: 11-0227V.

978. Sharon Seas, Canton, Ohio, Court of Federal Claims No: 11-0228V.

979. Rafaella Ganley, Washington, District of Columbia, Court of Federal Claims No: 11-0233V.

980. Jon F. Early, Nevada, Iowa, Court of Federal Claims No: 11-0235V.

981. Omar Del Rio, West Palm Beach, Florida, Court of Federal Claims No: 11-0238V.

982. Sarah Gregory, Fresno, California, Court of Federal Claims No: 11-0239V.

983. Dorothy Mathews, Tuscaloosa, Alabama, Court of Federal Claims No: 11-0242V.

984. Irena Kuzemczak-Lewis, Bronxville, New York, Court of Federal Claims No: 11-0243V.

985. Shishpal Purewal, Sarasota, Florida, Court of Federal Claims No: 11-0244V.

986. Eva and Ken Haley on behalf of Jade Haley, Springfield, Ohio, Court of Federal Claims No: 11-0246V.

987. Serena A. Bourne on behalf of Jason A. Bourne, Omaha, Nebraska, Court of Federal Claims No: 11-0247V.

988. Viswanathan Sankaran, Billerica, Massachusetts, Court of Federal Claims No: 11-0248V.

989. Natalie S. Wait Hiebert, Laguna Niguel, California, Court of Federal Claims No: 11-0251V.

990. Felitia and Lester Scott on behalf of Victoria Scott, Ellisville, Mississippi, Court of Federal Claims No: 11-0265V.

991. Sean David Murphy, Browns Summit, North Carolina, Court of Federal Claims No: 11-0266V.

992. Victoria Capdeville, Metairie, Louisiana, Court of Federal Claims No: 11-0271V.

993. Merrell S. McIlwain, Pawleys Island, South Carolina, Court of Federal Claims No: 11-0274V.

994. Shannon Nicole Ziemba, Wesley Hills, Massachusetts, Court of Federal Claims No: 11-0277V.

995. Bobbi and Shaun Lawrence Peters on behalf of Keith Peters, Mooresville, North Carolina, Court of Federal Claims No: 11-0281V.

996. Sue Russell on behalf of Kristianna Adams, Minneapolis, Minnesota, Court of Federal Claims No: 11-0282V.

997. Brittany M. Croft, Bedford, Texas, Court of Federal Claims No: 11-0283V.

998. Lauren Genshaft, Woodbury, New York, Court of Federal Claims No: 11-0284V.

999. Nancy L. Urick, Ketchikan, Alaska, Court of Federal Claims No: 11-0286V.

1000. Brooke A. Borders, Louisville, Kentucky, Court of Federal Claims No: 11-0287V.

1001. Mark A. Sibley on behalf of Paul L. Sibley, Deceased, Park Ridge, Illinois, Court of Federal Claims No: 11-0292V.

1002. Allen Dean Steeley on behalf of Debora Kay Steeley, Deceased, Ogden, Utah, Court of Federal Claims No: 11-0293V.

1003. Seth Thomas Angelo, Riviera Beach, Florida, Court of Federal Claims No: 11-0296V.

1004. Lauren Wholley, Beverly, Massachusetts, Court of Federal Claims No: 11-0300V.

1005. Helen Jump, San Bruno, California, Court of Federal Claims No: 11-0301V.

1006. Joyce O'Malley, Conyers, Georgia, Court of Federal Claims No: 11-0302V.

1007. Mona Menking, Lexington, Kentucky, Court of Federal Claims No: 11-0303V.

1008. Tony Clark, Butler, Missouri, Court of Federal Claims No: 11-0304V.

1009. Octavius Brown, Sandersville, Georgia, Court of Federal Claims No: 11-0305V.

1010. Brian Tite, Springfield, Missouri, Court of Federal Claims No: 11-0306V.

1011. Elizabeth Jasnosz, Monmouth Junction, New Jersey, Court of Federal Claims No: 11-0307V.

1012. Neil Mowatt, Rocky Mount, North Carolina, Court of Federal Claims No: 11-0308V.

1013. Donald Branstetter, Powell, Wyoming, Court of Federal Claims No: 11-0309V.

1014. Mark Sharp, Charlton, New York, Court of Federal Claims No: 11-0310V.

1015. Lydia Myrella Medina on behalf of Ayeri Adriana Medina, San Antonio, Texas, Court of Federal Claims No: 11-0311V.

1016. Richard Petraglia, Boston, Massachusetts, Court of Federal Claims No: 11-0315V.

1017. Lisa Burrell-Smith, Asheville, North Carolina, Court of Federal Claims No: 11-0316V.

1018. Erika Zanco on behalf of Santo B. Zanco, Deceased, San Francisco, California, Court of Federal Claims No: 11-0317V.

1019. Jodi M. Rowe on behalf of Patricia Carter Hyde, Deceased, Fayetteville, Georgia, Court of Federal Claims No: 11-0322V.

1020. Kevin M. Hinnefeld, Bloomington, Indiana, Court of Federal Claims No: 11-0328V.

1021. Guillermina Ramirez, San Antonio, Texas, Court of Federal Claims No: 11-0336V.

1022. Adeena Santiago and Erick Santiago, Sr. on behalf of Erick Santiago, Jr., Manhattan, New York, Court of Federal Claims No: 11-0342V.

1023. Letitia Simpson, Fort Stewart, Georgia, Court of Federal Claims No: 11-0343V.

1024. Alicia Champlin, Tucson, Arizona, Court of Federal Claims No: 11-0349V.

1025. Ardella Dschaak, Hettinger, North Dakota, Court of Federal Claims No: 11-0350V.

1026. Regina Williams on behalf of Violet Williams, Harrisburg, Pennsylvania, Court of Federal Claims No: 11-0352V.

1027. Steven A. Fioccoprile, Tucson, Arizona, Court of Federal Claims No: 11-0354V.

1028. Cheryl Koehn on Behalf of Vanessa Koehn, Santa Maria, California, Court of Federal Claims No: 11-0355V.

1029. April L. Garton and Jeremiah R. Casmire on behalf of Jeremiah R. Casmire, Jr., Deceased, Indianapolis, Indiana, Court of Federal Claims No: 11-0356V.

1030. Jenna Bear on Behalf of McKenzie Bear, Hudson, Ohio, Court of Federal Claims No: 11-0362V.

1031. Nora Kenney, Boston, Massachusetts, Court of Federal Claims No: 11-0363V.

1032. Catharine and Brian Beeks on behalf of Benjamin Lee Beeks, Lafayette, Indiana, Court of Federal Claims No: 11-0364V.

1033. Debra Solomon and Marlon White on behalf of Nicole White, Orlando, Florida, Court of Federal Claims No: 11-0365V.

1034. Aileen Blight, Dover, Delaware, Court of Federal Claims No: 11-0366V.

1035. Darryl Aldrich, Wichita, Kansas, Court of Federal Claims No: 11-0367V.

1036. Judith Adler, Great Barrington, Massachusetts, Court of Federal Claims No: 11-0368V.

1037. Robert C. Bettez, Naples, Florida, Court of Federal Claims No: 11-0369V.

1038. Sarah Bout and John Bout on behalf of Kallista Bout, Pittsburg, Pennsylvania, Court of Federal Claims No: 11-0370V.

1039. Paula Armstrong on behalf of Gretchen Armstrong, Shawnee Mission, Kansas, Court of Federal Claims No: 11-0378V.

1040. Megan Bauer, Laguna Hills, California, Court of Federal Claims No: 11-0387V.

1041. Allison Flood, Colleyville, Texas, Court of Federal Claims No: 11-0388V.

1042. Walli Afzali on behalf of Nasir Afzali, Chicago, Illinois, Court of Federal Claims No: 11-0390V.

1043. Arthur Charles Hoffman, Freemont, Nebraska, Court of Federal Claims No: 11-0395V.

1044. Candice Johnson, Chicago, Illinois, Court of Federal Claims No: 11-0398V.

1045. Stephanie Short on behalf of Yusef Abdullah, Pittsburgh, Pennsylvania, Court of Federal Claims No: 11-0399V.

1046. Valerie Schmidt, Salem, Oregon, Court of Federal Claims No: 11-0401V.

1047. Donald Shaw, Downingtown, Pennsylvania, Court of Federal Claims No: 11-0402V.

1048. Abbey Taylor Moon, Maysville, Kentucky, Court of Federal Claims No: 11-0403V.

1049. Monica Mercurio and Vincent Mercurio on behalf of Alessandro Mercurio, Los Alamitos, California, Court of Federal Claims No: 11-0410V.

1050. Barbara Jean and Harlan Joe Sallach on behalf of Sydney Sallach, Red Oak, Iowa, Court of Federal Claims No: 11-0411V.

1051. Jaclyn Nicole Hessel, Miami, Florida, Court of Federal Claims No: 11-0412V.

1052. Renisha and Sheldon Bivins on behalf of Sian Bivins, Rancho Mirage, California, Court of Federal Claims No: 11-0413V.

1053. Denis Louis, West Falls, New York, Court of Federal Claims No: 11-0414V.

1054. Shannon Smith, Biddeford, Maine, Court of Federal Claims No: 11-0415V.

1055. Nicole Kuzmin-Nichols on behalf of Sean Nichols, Vienna, Virginia, Court of Federal Claims No: 11-0417V.

1056. Theresa Lynch, Virginia Beach, Virginia, Court of Federal Claims No: 11-0421V.

1057. Jill Sarina, Reynoldsburg, Ohio, Court of Federal Claims No: 11-0422V.

1058. Diane Atwood, Greeneville, Alabama, Court of Federal Claims No: 11-0423V.

1059. William J. Vogler, Sidney, Ohio, Court of Federal Claims No: 11-0424V.

1060. Vicki Combs, Fort Mill, South Carolina, Court of Federal Claims No: 11-0425V.

1061. Thomas P. Gleason and Kay Z. Gleason on behalf of M.T.G., Shippensburg, Pennsylvania, Court of Federal Claims No: 11-0427V.

1062. Larry Acor, Pocatello, Idaho, Court of Federal Claims No: 11-0430V.

1063. Lisa Hart, Hagerstown, Maryland, Court of Federal Claims No: 11-0431V.

1064. Stephanie and Michael Jones on behalf of Jacob Jones, Clinton Township, Michigan, Court of Federal Claims No: 11-0433V.

1065. Cydni Myers on behalf of James Myers, Chattanooga, Tennessee, Court of Federal Claims No: 11-0434V.

1066. Julie Hogan, Wyoming, Minnesota, Court of Federal Claims No: 11-0437V.

1067. Lisa M. Wallace, Charlotte, North Carolina, Court of Federal Claims No: 11-0438V.

1068. Carol and Mark Bender on behalf of Kyle Bender, Ebensburg, Pennsylvania, Court of Federal Claims No: 11-0440V.

1069. Ray Sizemore, Boston, Massachusetts, Court of Federal Claims No: 11-0441V.

1070. Tabitha Price on behalf of Douglas Price, Boston, Massachusetts, Court of Federal Claims No: 11-0442V.

1071. Richard Sweet, Cincinnati, Ohio, Court of Federal Claims No: 11-0443V.

1072. Dean Desiderio, Plano, Texas, Court of Federal Claims No: 11-0444V.

1073. Kristen Brown, Houston, Texas, Court of Federal Claims No: 11-0448V.

1074. Ashley Copperthite on behalf of Asia Copperthite, Winchester, Virginia, Court of Federal Claims No: 11-0457V.

1075. Angela DiSanto, Garden City, New York, Court of Federal Claims No: 11-0459V.

1076. Leslie Sanker on behalf of Preston Nigel Sanker, Marblehead, Massachusetts, Court of Federal Claims No: 11-0463V.

1077. Roger Knizewski, Luray, Virginia, Court of Federal Claims No: 11-0468V.

1078. Nicole Martinelli, Schenectady, New York, Court of Federal Claims No: 11-0469V.

1079. Lee Hames, Auburn, Maine, Court of Federal Claims No: 11-0470V.

1080. Buel Dean Hamilton, Tulsa, Oklahoma, Court of Federal Claims No: 11-0476V.

1081. Jeffrey Compton and Casey Compton on behalf of Alyssa Compton, Elkton, Maryland, Court of Federal Claims No: 11-0477V.

1082. Andrea Knopp on behalf of Zane Knopp, Sandy, Utah, Court of Federal Claims No: 11-0478V.

1083. Ladonna Jean Coleman, Grapevine, Texas, Court of Federal Claims No: 11-0481V.

1084. Betty Stuckey, Kettering, Ohio, Court of Federal Claims No: 11-0484V.

1085. Gary C. Stebnitz, Janesville, Wisconsin, Court of Federal Claims No: 11-0485V.

1086. Santhamma Joseph, Queens, New York, Court of Federal Claims No: 11-0488V.

1087. Linda Schur, Portland, Oregon, Court of Federal Claims No: 11-0493V.

1088. Nevelyn McIntosh, Ann Arbor, Michigan, Court of Federal Claims No: 11-0494V.

1089. Kristy Rollins on behalf of Malory K. Rollins, Omaha, Nebraska, Court of Federal Claims No: 11-0495V.

1090. Eugene R. Luzader, Sr., Monroeville, Pennsylvania, Court of Federal Claims No: 11-0497V.

1091. Megan Marie Fabisch, Appleton, Wisconsin, Court of Federal Claims No: 11-0501V.

1092. Muriel Shea, Holmdel, New Jersey, Court of Federal Claims No: 11-0505V.

1093. Heather Andrews-Turner on behalf of Tayla Turner, Boston, Massachusetts, Court of Federal Claims No: 11-0506V.

1094. Clifton Haigler and Charity Haigler on behalf of Thomas Thurlow Haigler, Albermarle, North Carolina, Court of Federal Claims No: 11-0508V.

1095. Steven Houck, Irvine, California, Court of Federal Claims No: 11-0509V.

1096. Heather Warfield and Jason Warfield on behalf of M.A.W., Hilliard, Ohio, Court of Federal Claims No: 11-0512V.

1097. Nicholas Bucci and Tia Bucci on behalf of Dante Bucci, Boston, Massachusetts, Court of Federal Claims No: 11-0513V.

1098. Patricia Rodina, Kansas City, Kansas, Court of Federal Claims No: 11-0517V.

1099. Shannon M. McGrath on behalf of S.M., Deceased, Greensburg, Pennsylvania, Court of Federal Claims No: 11-0521V.

1100. Tara Murray Kuntz, Shawnee Mission, Kansas, Court of Federal Claims No: 11-0522V.

1101. Patricia A. Deluca, Hilton Head Island, South Carolina, Court of Federal Claims No: 11-0524V.

1102. Priscilla Carollo, New York, New York, Court of Federal Claims No: 11-0532V.

1103. Tina Ramsay on behalf of Donna Ramsey, Mobile, Alabama, Court of Federal Claims No: 11-0549V.

1104. Keith M. Abbott, Richmond, Virginia, Court of Federal Claims No: 11-0550V.

1105. Charlene Catron, Downey, California, Court of Federal Claims No: 11-0552V.

1106. Carlos Rivera, West Haverstraw, New York, Court of Federal Claims No: 11-0553V.

1107. Solmaz Modeer, Chula Vista, California, Court of Federal Claims No: 11-0563V.

1108. Mary L. Jones, Paducah, Kentucky, Court of Federal Claims No: 11-0565V.

1109. Sandra McCray, Philadelphia, Pennsylvania, Court of Federal Claims No: 11-0567V.

1110. Melissa Dalton on behalf of Quentin Dalton, St. Louis, Missouri, Court of Federal Claims No: 11-0568V.

1111. Alice Rivera on behalf of Gabriella Zodda, Orlando, Florida, Court of Federal Claims No: 11-0574V.

1112. Nancy McClendon, Somerset, Kentucky, Court of Federal Claims No: 11-0575V.

1113. Erik Steven Pedersen, San Diego, California, Court of Federal Claims No: 11-0576V.

1114. D. Golmakani, Reston, Virginia, Court of Federal Claims No: 11-0577V.

1115. Tracey Lynne Moore, South Nassau, Florida, Court of Federal Claims No: 11-0578V.

1116. Kathleen Schwartz and Alan Schwartz on behalf of Marissa Schwartz, Reseda, California, Court of Federal Claims No: 11-0579V.

1117. Joey Devore and Robert Devore on behalf of Landen Devore, Ft. Lauderdale, Florida, Court of Federal Claims No: 11-0580V.

1118. Carol Lynne Goerner, Scottsbluff, Wyoming, Court of Federal Claims No: 11-0584V.

1119. Gabriel Vina-Quintana, Grand Rapids, Michigan, Court of Federal Claims No: 11-0585V.

1120. Diane Grady on behalf of Zachary R. Chiavetta, Bloomington, Illinois, Court of Federal Claims No: 11-0586V.

1121. Hwai C. Yueh, San Diego, California, Court of Federal Claims No: 11-0587V.

1122. James Melton, Richmond, Virginia, Court of Federal Claims No: 11-0589V.

1123. Brent S Brown and Stephanie S Brown on behalf of Brent B Brown, Ventura, California, Court of Federal Claims No: 11-0591V.

1124. Frederick Inscho and Sherri Inscho on behalf of Gabrielle Inscho, Dayton, Ohio, Court of Federal Claims No: 11-0599V.

1125. Deena Kelley, Essex, Missouri, Court of Federal Claims No: 11-0602V.

1126. Lauren Farb, Boston, Massachusetts, Court of Federal Claims No: 11-0603V.

1127. Mary Cooper, Woodbridge, Virginia, Court of Federal Claims No: 11-0604V.

1128. Dorothy E. Barcelona on behalf of Louis Edward Barcelona, Sr., Baton Rouge, Louisiana, Court of Federal Claims No: 11-0605V.

1129. Kelly Weisse on behalf of Sean Weisse, Smithtown, New York, Court of Federal Claims No: 11-0611V.

1130. Robert Smith and Amy Smith on behalf of L. S., Murrieta, California, Court of Federal Claims No: 11-0614V.

1131. Noma F. Kamler, Steeleville, Missouri, Court of Federal Claims No: 11-0617V.

1132. Floyd B. Hinton, Jr., Fort Gordon, Georgia, Court of Federal Claims No: 11-0619V.

1133. Danielle Schmidt, Beaverton, Oregon, Court of Federal Claims No: 11-0620V.

1134. Jocelyn Wilson, El Paso, Texas, Court of Federal Claims No: 11-0621V.

1135. Susan Chessy, Washington, District of Columbia, Court of Federal Claims No: 11-0622V.

1136. Ricky L Shaw, Bellevue, Washington, Court of Federal Claims No: 11-0623V.

1137. Dwight Munger, Emmett, Idaho, Court of Federal Claims No: 11-0624V.

1138. Dwight Munger, Emmett, Idaho, Court of Federal Claims No: 11-0625V.

1139. Diane M. James, Manistee, Michigan, Court of Federal Claims No: 11-0626V.

1140. Joe B. Wallace, Kansas City, Missouri, Court of Federal Claims No: 11-0627V.

1141. Holly Helms on behalf of Layla Michelle Helms, Charleston, South Carolina, Court of Federal Claims No: 11-0628V.

1142. Louis Benson, Tucson, Arizona, Court of Federal Claims No: 11-0629V.

1143. Jeffrey M. Carpenter, Southfield, Michigan, Court of Federal Claims No: 11-0630V.

1144. Roy Greene, Webster, Texas, Court of Federal Claims No: 11-0631V.

1145. Vandana Bhandari, Vienna, Virginia, Court of Federal Claims No: 11-0632V.

1146. Ross Bergstedt, Peoria, Arizona, Court of Federal Claims No: 11-0633V.

1147. Stephanie Gigliotti and Nicholas Gigliotti, Jr. on behalf of Nicholas Gigliotti, III, Howell, New Jersey, Court of Federal Claims No: 11-0634V.

1148. William Werner, Burlington, Wisconsin, Court of Federal Claims No: 11-0635V.

1149. Jeffrey A. Krager and Nadine L. Krager on behalf of Casey R. Krager, Bettendorf, Iowa, Court of Federal Claims No: 11-0636V.

1150. Regina Stephens and Tyrone Stephens on behalf of Tyrone Stephens, Jr., Columbus, Ohio, Court of Federal Claims No: 11-0637V.

1151. Robert Barker, Prices Corner, Delaware, Court of Federal Claims No: 11-0638V.

1152. Thomas Taylor, Buchanan, Virginia, Court of Federal Claims No: 11-0640V.

1153. Lynne Rectenwal, South Bend, Indiana, Court of Federal Claims No: 11-0641V.

1154. Cheryl Patricia Kinser, Oklahoma City, Oklahoma, Court of Federal Claims No: 11-0642V.

1155. Reuben Elliott, New York, New York, Court of Federal Claims No: 11-0644V.

1156. Christina Michalski, Richmond, Virginia, Court of Federal Claims No: 11-0646V.

1157. Sandra Walker, Smiths Station, Alabama, Court of Federal Claims No: 11-0648V.

1158. Valente C. Sanchez, Sarasota, Florida, Court of Federal Claims No: 11-0649V.

1159. Franklin Brewer, Huntsville, Texas, Court of Federal Claims No: 11-0650V.

1160. Perla Sanchez on behalf of Erasmo Barron, Edinburg, Texas, Court of Federal Claims No: 11-0651V.

1161. Leslie Crandall, Salt Lake City, Utah, Court of Federal Claims No: 11-0652V.

1162. Johnny E. Pennington, Alvin, Texas, Court of Federal Claims No: 11-0653V.

1163. Kevin Raymo and Heather Raymo on behalf of Hannah Taylor Raymo, Little Rock, Arizona, Court of Federal Claims No: 11-0654V.

1164. Delores Nichelle Rice, Austin, Texas, Court of Federal Claims No: 11-0655V.

1165. Brian Welsh and Jane Welsh on behalf of Cameron Welsh, Venice, Florida, Court of Federal Claims No: 11-0656V.

1166. Benjamin Truncali and Jamie Truncali on behalf of Anthony Truncali, Fishkill, New York, Court of Federal Claims No: 11-0657V.

1167. Judy Dodd, Franklin, Tennessee, Court of Federal Claims No: 11-0661V.

1168. Sean Bennett, Fort Myers, Florida, Court of Federal Claims No: 11-0662V.

1169. Sean Mason on behalf of Nancy L. Hayman, Jacksonville, Florida, Court of Federal Claims No: 11-0667V.

1170. David Beckner, Mobile, Alabama, Court of Federal Claims No: 11-0668V.

1171. Brittney P. Revell, Montgomery, Alabama, Court of Federal Claims No: 11-0669V.

1172. Carolyn J. Roberson, Salmon, Idaho, Court of Federal Claims No: 11-0670V.

1173. James A. Bevis, Cincinnati, Ohio, Court of Federal Claims No: 11-0672V.

1174. Clarence Mantlo, Nashville, Tennessee, Court of Federal Claims No: 11-0673V.

1175. Kyle H. Goelling, Morrisville, North Carolina, Court of Federal Claims No: 11-0674V.

1176. Audrey McElroy, Athens, Georgia, Court of Federal Claims No: 11-0679V.

1177. Susan Habchy, Boston, Massachusetts, Court of Federal Claims No: 11-0680V.

1178. Jennifer Sanchez and Germain Sanchez on behalf of Trystan Sanchez, Irvine, California, Court of Federal Claims No: 11-0685V.

1179. Susan Henderlong on behalf of Jacob Henderlong, Clinton, Michigan, Court of Federal Claims No: 11-0689V.

1180. Timothy Mathews, Clermont, North Carolina, Court of Federal Claims No: 11-0691V.

1181. Olivia Bender, Kingman, Arizona, Court of Federal Claims No: 11-0693V.

1182. Codie Mims, Georgetown, Texas, Court of Federal Claims No: 11-0694V.

1183. Debbie Lynn Rakes, Graham, North Carolina, Court of Federal Claims No: 11-0695V.

1184. Andrew W. Sacharok, Milmont, Pennsylvania, Court of Federal Claims No: 11-0696V.

1185. Janice Glaus, Maplewood, Minnesota, Court of Federal Claims No: 11-0698V.

1186. Cynthia Thibodeaux, Houma, Louisiana, Court of Federal Claims No: 11-0702V.

1187. Joan Novarro, Washington, District of Columbia, Court of Federal Claims No: 11-0707V.

1188. Lisa Hubina on behalf of Jessica Hubina, Bristol, Connecticut, Court of Federal Claims No: 11-0708V.

1189. Brian Machado, Roseville, California, Court of Federal Claims No: 11-0709V.

1190. James Jim Kindell, San Antonio, Texas, Court of Federal Claims No: 11-0710V.

1191. Holly J. DeVore, Richmond, Virginia, Court of Federal Claims No: 11-0714V.

1192. Pearl S. Guilliams, Niceville, Florida, Court of Federal Claims No: 11-0716V.

1193. Marta Sandoval on behalf of Emma M Sandoval, New Rochelle, New York, Court of Federal Claims No: 11-0720V.

1194. Lori Gorman and Brian Gorman on behalf of Aidan Gorman, Garden City, New York, Court of Federal Claims No: 11-0721V.

1195. Marta M. Sandoval on behalf of Sebastian A. Sandoval, New Rochelle, New York, Court of Federal Claims No: 11-0722V.

1196. Amanda K. Momberg, Mequon, Wisconsin, Court of Federal Claims No: 11-0726V.

1197. Joyce Dixon-Robinson, Milwaukee, Wisconsin, Court of Federal Claims No: 11-0727V.

1198. Darrell Linville, Flemingsburg, Kentucky, Court of Federal Claims No: 11-0728V.

1199. Maria Candell, Daytona Beach, Florida, Court of Federal Claims No: 11-0729V.

1200. David Mudano and Heather Mudano on behalf of J. M. M., Weatogue, Connecticut, Court of Federal Claims No: 11-0730V.

1201. Eddie K. Ogletree, Auburn, Alabama, Court of Federal Claims No: 11-0731V.

1202. John Crane, Indianapolis, Indiana, Court of Federal Claims No: 11-0732V.

1203. Don Ouk and Vannarim Oukon behalf of Kevin Ouk, Deceased, Boston, Massachusetts, Court of Federal Claims No: 11-0736V.

1204. Maryanne Tierney on behalf of Alyssa Tierney, Boston, Massachusetts, Court of Federal Claims No: 11-0737V.

1205. Meredith A. McCann, Jacksonville, Florida, Court of Federal Claims No: 11-0738V.

1206. Juanita Burgess, Tempe, Arizona, Court of Federal Claims No: 11-0739V.

1207. Shelley Nelson, Federal Way, Washington, Court of Federal Claims No: 11-0744V.

1208. Mandy Horton on behalf of Kory Manderle, Great Falls, Montana, Court of Federal Claims No: 11-0746V.

1209. Jessica Nicole Casteneda on behalf of N. H., Phoenix, Arizona, Court of Federal Claims No: 11-0749V.

1210. Melanie Roush on behalf of Savanna Simmons, Columbus, Ohio, Court of Federal Claims No: 11-0750V.

1211. Pamela Kwiatkowski, Mecklenburg, North Carolina, Court of Federal Claims No: 11-0757V.

1212. Diane Hallowell, Asheville, North Carolina, Court of Federal Claims No: 11-0758V.

1213. Maryse R. Charbonneau, Hooksett, New Hampshire, Court of Federal Claims No: 11-0759V.

1214. Patricia A. Sayo, Millville, Delaware, Court of Federal Claims No: 11-0760V.

1215. Gregory H. Ladner, Philadelphia, Pennsylvania, Court of Federal Claims No: 11-0763V.

1216. Amy Sternhagen on behalf of Reese Sternhagen, Farmington Hills, Michigan, Court of Federal Claims No: 11-0764V.

1217. Heather Rogero and Walter A. Rogero, II on behalf of Walter A. Rogero, III, Falls Church, Virginia, Court of Federal Claims No: 11-0770V.

1218. Brian Barkas, Oxnard, California, Court of Federal Claims No: 11-0771V.

1219. Walter Milk, Boston, Massachusetts, Court of Federal Claims No: 11-0785V.

1220. Arturo Rodriguez, Orlando, Florida, Court of Federal Claims No: 11-0786V.

1221. Lorenzo Thomas and Alina Thomas on behalf of T. N. T., Las Vegas, Nevada, Court of Federal Claims No: 11-0787V.

1222. Brian A. McCullough, Fort Knox, Kentucky, Court of Federal Claims No: 11-0793V.

1223. Adriane Davey, Clackamas, Oregon, Court of Federal Claims No: 11-0794V.

1224. Laura Larue, Naperville, Illinois, Court of Federal Claims No: 11-0795V.

1225. Tamera Jean Johnston, Rochester, Minnesota, Court of Federal Claims No: 11-0796V.

1226. Stacey Musto and Kevin Musto on behalf of Kayla Musto, Richmond, Virginia, Court of Federal Claims No: 11-0801V.

1227. Sylvia M. James on behalf of A. C. W., Deland, Florida, Court of Federal Claims No: 11-0805V.

1228. David Forrisi, Pittsburgh, Pennsylvania, Court of Federal Claims No: 11-0806V.

1229. Jacob Peterson and Kathryn Peterson on behalf of Liam Peterson, Great Falls, Montana, Court of Federal Claims No: 11-0807V.

1230. Lisa Evelsizer, Springfield, Illinois, Court of Federal Claims No: 11-0809V.

1231. Lynn Frye on behalf of Virginia Taylor, Deceased, Albuquerque, New Mexico, Court of Federal Claims No: 11-0810V.

1232. James Persinger, Garden City, Kansas, Court of Federal Claims No: 11-0811V.

1233. Lindsey Ann Miller, Loudonville, Kentucky, Court of Federal Claims No: 11-0852V.

1234. Mary E. Pavilonis, McKees Rocks, Pennsylvania, Court of Federal Claims No: 11-0853V.

1235. Samuel Henderson, Tempe, Arizona, Court of Federal Claims No: 11-0854V.

1236. Patrick J. Nowak, Dalton, Massachusetts, Court of Federal Claims No: 11-0858V.

1237. Jennifer D Quinn on behalf of Kristen Hope Zimmerman, Kokomo, Indiana, Court of Federal Claims No: 11-0859V.

1238. Kevin C. Schleisman, Rockwell City, Iowa, Court of Federal Claims No: 11-0864V.

1239. Mark Webster, Ann Arbor, Michigan, Court of Federal Claims No: 11-0865V.

1240. Jacqueline Vavrik, Duluth, Georgia, Court of Federal Claims No: 11-0868V.

1241. Dana Wilcox on behalf of Megan Wilcox, San Diego, California, Court of Federal Claims No: 11-0875V.

1242. Frieda Lauber on behalf of O. K., Fort Lauderdale, Florida, Court of Federal Claims No: 11-0876V.

1243. Michael D. Berry, Irvine, California, Court of Federal Claims No: 11-0882V.

1244. Angela Kidd and Sidney Kidd on behalf of Colin Kidd, Florence, South Carolina, Court of Federal Claims No: 11-0883V.

1245. Paul W. Poling, Canastota, New York, Court of Federal Claims No: 11-0887V.

1246. William “Bill” Barboza, New Bern, North Carolina, Court of Federal Claims No: 11-0890V.

1247. Michael McPherson, Bronx, New York, Court of Federal Claims No: 11-0892V.

1248. Caleigh Miller, Fort Wayne, Indiana, Court of Federal Claims No: 11-0893V.

1249. Virginia Versland on behalf of Catherine Bratt, Englewood, New Jersey, Court of Federal Claims No: 11-0900V.

1250. Melville Pugh, Dallas, Texas, Court of Federal Claims No: 11-0901V.

1251. Barbara Snyder, Brooklyn, New York, Court of Federal Claims No: 11-0902V.

1252. Helen V. Hucksam, Norwood, Massachusetts, Court of Federal Claims No: 11-0907V.

1253. Robert Sapien on behalf of Alissa E Sapien, San Diego, California, Court of Federal Claims No: 12-0013V.

1254. Chelsea D. Barr on behalf of Emma Rose Barr, St. Charles, Missouri, Court of Federal Claims No: 12-0014V.

1255. Julie Anderson, Minneapolis, Minnesota, Court of Federal Claims No: 12-0016V.

1256. Robert Perretta, Safety Harbor, Florida, Court of Federal Claims No: 12-0017V.

1257. Jaclyn Elizabeth Farrar on behalf of Madison Mae Farrar, Quincy, Massachusetts, Court of Federal Claims No: 12-0028V.

1258. Robert Powell, Gatesville, Texas, Court of Federal Claims No: 12-0029V.

1259. Rebecca A. Norton, Dallas, Texas, Court of Federal Claims No: 12-0031V.

1260. James MacKenzie, Maynardville, Tennessee, Court of Federal Claims No: 12-0032V.

1261. Joyce Ruth Culbertson, Westminster, South Carolina, Court of Federal Claims No: 12-0034V.

1262. Ernie Wayne Feierabend, Baton Rouge, Louisiana, Court of Federal Claims No: 12-0035V.

1263. Starla Jones, Marysville, Ohio, Court of Federal Claims No: 12-0038V.

1264. Shannon M. Barry, New York, New York, Court of Federal Claims No: 12-0039V.

1265. Kristyn Polen, New Albany, Indiana, Court of Federal Claims No: 12-0046V.

1266. Misty Kelm on behalf of B. K., Fort Smith, Arizona, Court of Federal Claims No: 12-0054V.

1267. Kaitlyn E. Aholt, Marthasville, Missouri, Court of Federal Claims No: 12-0055V.

1268. Brad Spoden and Jeanne Spoden on behalf of Cole Michael Spoden, Chaska, Minnesota, Court of Federal Claims No: 12-0068V.

1269. Linda Mullins, Pound, Virginia, Court of Federal Claims No: 12-0069V.

1270. Madeline Wunder, Falmouth, Massachusetts, Court of Federal Claims No: 12-0072V.

1271. Karen Morgan and Michael Morgan on behalf of A. R. M., Haddonfield, New Jersey, Court of Federal Claims No: 12-0077V.

1272. Heather Mullen and Michael Mullen on behalf of D. P. M., Red Bank, New Jersey, Court of Federal Claims No: 12-0078V.

1273. Sharon E. Ricard, Antioch, California, Court of Federal Claims No: 12-0084V.

1274. John Valuckas and Cyndi Valuckas on behalf of P.V., Unionville, Connecticut, Court of Federal Claims No: 12-0086V.

1275. Lisa Faup on behalf of A. F., Old Bridge, New Jersey, Court of Federal Claims No: 12-0087V.

1276. Isabel Terrell, Palm Beach Gardens, Florida, Court of Federal Claims No: 12-0093V.

1277. John Matthew Buchko and Tara Henderson on behalf of Olivia Buchko, Charleston, West Virginia, Court of Federal Claims No: 12-0096V.

1278. Katie Roberts on behalf of E. M. R., Sarasota, Florida, Court of Federal Claims No: 12-0099V.

1279. Heather L. Magill and Scott A. Magill on behalf of Conor James Magill, Huntingdon, Pennsylvania, Court of Federal Claims No: 12-0100V.

1280. Edward M. Haney, Richmond, California, Court of Federal Claims No: 12-0103V.

1281. Kortney Meadows, Ann Arbor, Michigan, Court of Federal Claims No: 12-0105V.

1282. Luis Corona, Norwalk, Connecticut, Court of Federal Claims No: 12-0106V.

1283. Stephany Shayeghi on behalf of Ava Rose Shayeghi, Mooresville, North Carolina, Court of Federal Claims No: 12-0108V.

1284. Munther Alrubea on behalf of Rouqaya Alrubea, Dearborn, Michigan, Court of Federal Claims No: 12-0110V.

1285. Mary G. Mitchell, Marietta, Georgia, Court of Federal Claims No: 12-0111V.

1286. Gerald Lindy, Woodbridge, Connecticut, Court of Federal Claims No: 12-0112V.

1287. David Goldstein on Behalf of Lester Goldstein, Deceased, Somers Point, New Jersey, Court of Federal Claims No: 12-0116V.

1288. Cassandra Burchett, New Port Richey, Florida, Court of Federal Claims No: 12-0119V.

1289. Dima Alhajsalem and John Whitmer on behalf of Omar Whitmer, Greenbelt, Maryland, Court of Federal Claims No: 12-0120V.

1290. Raymond Fierro, Reno, Nevada, Court of Federal Claims No: 12-0123V.

1291. Kimberly Sewell, Bakersfield, California, Court of Federal Claims No: 12-0124V.

1292. Amber Baker on behalf of Oliver Baker, Houston, Texas, Court of Federal Claims No: 12-0126V.

1293. Janet P. Rose, Norwood, Massachusetts, Court of Federal Claims No: 12-0128V.

1294. S. B. Schwartz, Charleston, South Carolina, Court of Federal Claims No: 12-0129V.

1295. Elizabeth A. Wissner, Mukwonago, Wisconsin, Court of Federal Claims No: 12-0130V.

1296. Rachel M. Whiting, Yarmouth, Massachusetts, Court of Federal Claims No: 12-0132V.

1297. Timothy Bass, Phoenix, Arizona, Court of Federal Claims No: 12-0135V.

1298. Gregory Howard, Chaska, Minnesota, Court of Federal Claims No: 12-0139V.

1299. Matthew Daniel, Concord, North Carolina, Court of Federal Claims No: 12-0141V.

1300. Douglas Frank Gilmore, Jr., Washington, District of Columbia, Court of Federal Claims No: 12-0143V.

1301. Brandon Graham and Charmaine Graham on behalf of Kyree Graham, Yorktown, Virginia, Court of Federal Claims No: 12-0144V.

1302. Willie Ransom, Covington, Georgia, Court of Federal Claims No: 12-0145V.

1303. Beverli Riley, Kissimmee, Florida, Court of Federal Claims No: 12-0146V.

1304. Elaine De Jesus, Altadena, California, Court of Federal Claims No: 12-0149V.

1305. Charles Barfield, Roseville, California, Court of Federal Claims No: 12-0153V.

1306. Ronald Nolde on Behalf of Henry Nolde, Marinette, Wisconsin, Court of Federal Claims No: 12-0154V.

1307. Nicole Matten on behalf of K. M., Newport, Vermont, Court of Federal Claims No: 12-0155V.

1308. David Scuderi, Scarsdale, New York, Court of Federal Claims No: 12-0156V.

1309. Melodee Haole on Behalf of Kelii I. Haole, Wahiawa, Hawaii, Court of Federal Claims No: 12-0159V.

1310. Judith Morgan, Menasha, Wisconsin, Court of Federal Claims No: 12-0160V.

1311. Lucy Szarma on behalf of Bernard L. Szarma, Deceased, Richmond, Virginia, Court of Federal Claims No: 12-0162V.

1312. Amerlindia Sanchez Vega, Coamo, Puerto Rico, Court of Federal Claims No: 12-0164V.

1313. Regan M. Colombatto, New Orleans, Louisiana, Court of Federal Claims No: 12-0166V.

1314. Frank Mastin, Oro Valley, Arizona, Court of Federal Claims No: 12-0171V.

1315. Evangeline Tuason, League City, Texas, Court of Federal Claims No: 12-0172V.

1316. Laura Mahoney and Richard Mahoney on behalf of Richard David Mahoney, Fort Worth, Texas, Court of Federal Claims No: 12-0174V.

1317. Patricia Hockett, Shaker Heights, Ohio, Court of Federal Claims No: 12-0176V.

1318. David Dorff, Fargo, North Dakota, Court of Federal Claims No: 12-0178V.

1319. Amanda Strout on behalf of Riana L. Inman, Lewiston, Maine, Court of Federal Claims No: 12-0180V.

1320. Joanne Neri, Clifton Park, New York, Court of Federal Claims No: 12-0185V.

1321. Mary Brown, Sylva, North Carolina, Court of Federal Claims No: 12-0187V.

1322. John L. Strauss, Grand Rapid, Michigan, Court of Federal Claims No: 12-0188V.

1323. Anne Brooks Brauer, Fredericksburg, Virginia, Court of Federal Claims No: 12-0189V.

1324. Marisol Ledesma Tirador on behalf of Paola Melissa Carbo Ledesma, Fort Lauderdale, Florida, Court of Federal Claims No: 12-0192V.

1325. Michael Pereyra on behalf of Michael S. Pereyra, Jr., Pasadena, California, Court of Federal Claims No: 12-0195V.

1326. Carl Campagna, Lake Zurich, Illinois, Court of Federal Claims No: 12-0196V.

1327. Stacey Hansen and Gabriel Hansen on behalf of Hadlie Hansen, Grenada, Mississippi, Court of Federal Claims No: 12-0203V.

1328. Edwin J. Whitman, MD Castro Valley, California, Court of Federal Claims No: 12-0205V.

1329. Erin Renee Chesteen, Memphis, Tennessee, Court of Federal Claims No: 12-0206V.

1330. Patricia Cave, Gonzales, Louisiana, Court of Federal Claims No: 12-0215V.

1331. Beth Rolinger, Milton, Florida, Court of Federal Claims No: 12-0217V.

1332. Richard Harris on behalf of Andrea Harris, Deceased, Elkhart, Kansas, Court of Federal Claims No: 12-0218V.

1333. Jonathan Tyler Bishop and Amy Bishop on behalf of Reed Bishop, Florence, Mississippi, Court of Federal Claims No: 12-0219V.

1334. Lise Wright, Fontana, California, Court of Federal Claims No: 12-0220V.

1335. George Thompson, Charleston, South Carolina, Court of Federal Claims No: 12-0221V.

1336. Virginia Arlotta, Boston, Massachusetts, Court of Federal Claims No: 12-0222V.

1337. Tomika McLeod on behalf of Elijah McLeod, South Bend, Indiana, Court of Federal Claims No: 12-0232V.

1338. Kelly Schultz, Livingston, New Jersey, Court of Federal Claims No: 12-0234V.

1339. Bruno Stroili, Scottsdale, Arizona, Court of Federal Claims No: 12-0235V.

1340. Diane M. Dobbs, Wisconsin Dells, Wisconsin, Court of Federal Claims No: 12-0236V.

1341. Timothy E. Dowden, Baraboo, Wisconsin, Court of Federal Claims No: 12-0246V.

1342. Melissa Biggs, Mequon, Wisconsin, Court of Federal Claims No: 12-0247V.

1343. Mark Miles on behalf of Jackson Miles, Dallas, Texas, Court of Federal Claims No: 12-0254V.

1344. Leslie Lord, Randall Magnuski on behalf of Chase Lord, Swansea, Massachusetts, Court of Federal Claims No: 12-0255V.

1345. Jack T. Galyean, Cedar Rapids, Iowa, Court of Federal Claims No: 12-0257V.

1346. Shirley Tapia on behalf of Ethan Tapia, Tulsa, Oklahoma, Court of Federal Claims No: 12-0264V.

1347. Percell Livingston on behalf of Donavin Livingston, East Orange, New Jersey, Court of Federal Claims No: 12-0268V.

1348. Donald Presgrave, Boston, Massachusetts, Court of Federal Claims No: 12-0269V.

1349. Matthew Muszynski, Chicago, Illinois, Court of Federal Claims No: 12-0270V.

1350. Vijay Patel, Bay Shore, New York, Court of Federal Claims No: 12-0276V.

1351. Greta Lowther, Montpelier, Vermont, Court of Federal Claims No: 12-0277V.

1352. Sandra P. Reagan, Cary, North Carolina, Court of Federal Claims No: 12-0279V.

1353. Chelsey Moore and James Pitts on behalf of O. P., Denver, Colorado, Court of Federal Claims No: 12-0280V.

1354. Angela Vigliotti, Kingston, New York, Court of Federal Claims No: 12-0281V.

1355. Dawn McGraw, Lexington, Kentucky, Court of Federal Claims No: 12-0282V.

1356. James Castillo, Milwaukee, Wisconsin, Court of Federal Claims No: 12-0283V.

1357. Montez Petronelli, Milpitas, California, Court of Federal Claims No: 12-0285V.

1358. Leslie Brown, Danville, Illinois, Court of Federal Claims No: 12-0287V.

1359. Gary Kramolis, West, Texas, Court of Federal Claims No: 12-0288V.

1360. Margo Bryk, Suwanee, Georgia, Court of Federal Claims No: 12-0290V.

1361. Marianne Archambo, Paoli, Pennsylvania, Court of Federal Claims No: 12-0291V.

1362. Lawrence Lee, Scottsdale, Arizona, Court of Federal Claims No: 12-0294V.

1363. Octavio Cantos, Napa, California, Court of Federal Claims No: 12-0295V.

1364. Shelaine Harmon, Chicago, Illinois, Court of Federal Claims No: 12-0298V.

1365. David Gilchrist on behalf of Lynne Gilchrist, Garberville, California, Court of Federal Claims No: 12-0302V.

1366. Paul Pothier, Beachwood, Ohio, Court of Federal Claims No: 12-0306V.

1367. Arthur C. Howard, Kamuela, Hawaii, Court of Federal Claims No: 12-0307V.

1368. Nancy Harris Bowman, Orlando, Florida, Court of Federal Claims No: 12-0308V.

1369. Dorothy Thomas, Bryan, Texas, Court of Federal Claims No: 12-0309V.

1370. Brandy Carpenter on behalf of A. H., Gallatin, Tennessee, Court of Federal Claims No: 12-0310V.

1371. Katie E. Lamare, Morrisville, Vermont, Court of Federal Claims No: 12-0312V.

1372. Jessica L. Weppler on behalf of Julie Weppler, Sheldon, Iowa, Court of Federal Claims No: 12-0316V.

1373. Kay Anne Jacobson, Clarion, Iowa, Court of Federal Claims No: 12-0318V.

1374. Kelly Howard on behalf of Natalie Howard, Nashua, New Hampshire, Court of Federal Claims No: 12-0324V.

1375. Tara Martz and Daniel Martz on behalf of C. M., Tampa, Florida, Court of Federal Claims No: 12-0329V.

1376. Leslie Shives, Lebanon, Indiana, Court of Federal Claims No: 12-0330V.

1377. Wayne Turner, Richmond, Virginia, Court of Federal Claims No: 12-0331V.

1378. Verda G. Lawellin, Sun Valley, Arizona, Court of Federal Claims No: 12-0333V.

1379. Ashton Godfrey, Gilbert, Arizona, Court of Federal Claims No: 12-0334V.

1380. Shari Keith, Chandler, Arizona, Court of Federal Claims No: 12-0335V.

1381. Lenna Kesenci, Glen Rock, New Jersey, Court of Federal Claims No: 12-0339V.

1382. Charles Fout, Aberdeen, Maryland, Court of Federal Claims No: 12-0343V.

1383. Kristine Plumb on behalf of Steven Chambers, Phoenix, Arizona, Court of Federal Claims No: 12-0344V.

1384. James W. Endress, Mount Clemens, Michigan, Court of Federal Claims No: 12-0345V.

1385. Bryan Comeaux and Kelly Comeaux on behalf of Caroline Comeaux, New Iberia, Louisiana, Court of Federal Claims No: 12-0348V.

1386. Janice Fickett, Portsmouth, New Hampshire, Court of Federal Claims No: 12-0350V.

1387. Myrtle Bottorf, Jersey Shore, Pennsylvania, Court of Federal Claims No: 12-0351V.

1388. Yilak Kebebew and Sinidu Robi on behalf of Dagim Yilak, Columbus, Ohio, Court of Federal Claims No: 12-0352V.

1389. Dorota Von Maack, Brooklyn, New York, Court of Federal Claims No: 12-0354V.

1390. Cammie Finlay and Douglas Finlay on behalf of Gina L. Finlay, Jena, Louisiana, Court of Federal Claims No: 12-0356V.

1391. Summer Perry, Burbank, California, Court of Federal Claims No: 12-0359V.

1392. Julia Balogh, Hightstown, New Jersey, Court of Federal Claims No: 12-0360V.

1393. Dylia L. White, Colorado Springs, Colorado, Court of Federal Claims No: 12-0362V.

1394. Benedict L. Fleis, Traverse City, Michigan, Court of Federal Claims No: 12-0365V.

1395. Chaz Evans-Haywood on behalf of L. E-H., Harrisonburg, Pennsylvania, Court of Federal Claims No: 12-0367V.

1396. Tesha Connors-Robinson, Dover, New Hampshire, Court of Federal Claims No: 12-0372V.

1397. George Dominguez, Los Angeles, California, Court of Federal Claims No: 12-0378V.

1398. Freddie Grigsby, Hindman, Kentucky, Court of Federal Claims No: 12-0381V.

1399. Stephen J. Hujarski, Macedonia, Ohio, Court of Federal Claims No: 12-0383V.

1400. Linda Collier, Lexington, Kentucky, Court of Federal Claims No: 12-0387V.

1401. Silvia G. Abdulrahman, New Orleans, Louisiana, Court of Federal Claims No: 12-0391V.

1402. Brian Rife and Anne Rife on behalf of B. R., Bristol, Tennessee, Court of Federal Claims No: 12-0392V.

1403. Kathryn Godlewski, Rancine, Wisconsin, Court of Federal Claims No: 12-0396V.

1404. Jennah Qutub, Vienna, Virginia, Court of Federal Claims No: 12-0397V.

1405. Sheila Schindler, Astoria, New York, Court of Federal Claims No: 12-0398V.

1406. Gary R. Poling on behalf of J. T. P., Lynchburg, Virginia, Court of Federal Claims No: 12-0399V.

1407. Eric Swintosky and Heather Swintosky on behalf of C. M. S., Harrisburg, Pennsylvania, Court of Federal Claims No: 12-0403V.

1408. Joan Ellen Sorensen, Charlottesville, Virginia, Court of Federal Claims No: 12-0404V.

1409. William J. Bodi, Rancine, Washington, Court of Federal Claims No: 12-0405V.

1410. Lashell Moses-Batts, Indianapolis, Indiana, Court of Federal Claims No: 12-0406V.

1411. Daniel Mireles, San Antonio, Texas, Court of Federal Claims No: 12-0407V.

1412. Kolena Deel, Chapmanville, West Virginia, Court of Federal Claims No: 12-0410V.

1413. Erica Hill on behalf of Eric Jackson, Williamstown, New Jersey, Court of Federal Claims No: 12-0411V.

1414. Jennifer Trombetta, Cape May, New Jersey, Court of Federal Claims No: 12-0414V.

1415. Matthew Morris, Lakeview, Oregon, Court of Federal Claims No: 12-0415V.

1416. Laurie Wehmeyer, Woodbridge, Virginia, Court of Federal Claims No: 12-0416V.

1417. Connie Rudy, Orwigsburg, Pennsylvania, Court of Federal Claims No: 12-0417V.

1418. Nancy J. Pass, Gainesville, Georgia, Court of Federal Claims No: 12-0418V.

1419. Carol Cathcart and Monty Cathcart on behalf of Kyra Cathcart, Liberal, Kansas, Court of Federal Claims No: 12-0419V.

1420. Dan Mosher, Las Cruces, New Mexico, Court of Federal Claims No: 12-0421V.

1421. Lillian Randall, Somerville, Massachusetts, Court of Federal Claims No: 12-0422V.

1422. Mary Kate Wright and Garry Wright on behalf of Miles Wright, Fair Lawn, New Jersey, Court of Federal Claims No: 12-0423V.

1423. Hattie M. Jefferies, Grandview, Missouri, Court of Federal Claims No: 12-0426V.

1424. Tania Poma and Jose S. Manzano on behalf of Dylan Manzano, Bronx, New York, Court of Federal Claims No: 12-0427V.

1425. Gary A. Plaisance, Marrero, Louisiana, Court of Federal Claims No: 12-0430V.

1426. Lawrence T. Karol, Encino, California, Court of Federal Claims No: 12-0433V.

1427. Tommy Combs, Tempe, Arizona, Court of Federal Claims No: 12-0436V.

1428. Tyriese Dominique, Houston, Texas, Court of Federal Claims No: 12-0438V.

1429. Margaret Rouse on behalf of Henry Sundemeyer, Deceased, Somers Point, New Jersey, Court of Federal Claims No: 12-0439V.

1430. Zohreh Gerami, San Rafael, California, Court of Federal Claims No: 12-0442V.

1431. Ronald Keaton, Westerville, Ohio, Court of Federal Claims No: 12-0444V.

1432. Mitch Steinberg, South Miami, Florida, Court of Federal Claims No: 12-0445V.

1433. Angela Chavez, Dayton, Ohio, Court of Federal Claims No: 12-0452V.

1434. Laurie Christ, Seaford, New York, Court of Federal Claims No: 12-0454V.

1435. Ray A. James, Edmond, Oklahoma, Court of Federal Claims No: 12-0460V.

1436. Joseph Monteleone, Garfield Heights, Ohio, Court of Federal Claims No: 12-0461V.

1437. Brian Witte, Crystal Lake, Illinois, Court of Federal Claims No: 12-0462V.

1438. Tracy Purgason, Reidsville, North Carolina, Court of Federal Claims No: 12-0465V.

1439. Christopher Jones, Raleigh, North Carolina, Court of Federal Claims No: 12-0466V.

1440. Kathleen Ann Mennenga, Nassau Bay, Texas, Court of Federal Claims No: 12-0470V.

1441. Kevin G. Schmitz, Kansas City, Kansas, Court of Federal Claims No: 12-0473V.

1442. Jeffrey Land, Port Huron, Michigan, Court of Federal Claims No: 12-0474V.

1443. Clifford J. Shoemaker on behalf of Elio Bondi, Deceased, Washington, District of Columbia, Court of Federal Claims No: 12-0476V.

1444. Alisha Dudenhoeffer on behalf of Kali Thoenen, Columbia, Missouri, Court of Federal Claims No: 12-0477V.

1445. Thuy Nguyen on behalf of S. N., Portland, Oregon, Court of Federal Claims No: 12-0479V.

1446. Ethel J. Bryant on behalf of Kylie F. Eastin, Cincinnati, Ohio, Court of Federal Claims No: 12-0480V.

1447. Shannon Tatum, Phoenix City, Arizona, Court of Federal Claims No: 12-0483V.

1448. Martha Gil and Raul Gutierrez on behalf of Michelle Gutierrez, El Paso, Texas, Court of Federal Claims No: 12-0485V.

1449. Carolyn Kerr, Hensley, Alaska, Court of Federal Claims No: 12-0487V.

1450. Perry Cellana, Orange, Massachusetts, Court of Federal Claims No: 12-0491V.

1451. Mona L. Biegler, Sandy, Oregon, Court of Federal Claims No: 12-0492V.

1452. Wynonia Jansky, Southlake, Texas, Court of Federal Claims No: 12-0494V.

1453. Deborah Wanaselja, Bethlehem, Pennsylvania, Court of Federal Claims No: 12-0495V.

1454. Sarah Choudry, Pasco, Washington, Court of Federal Claims No: 12-0496V.

1455. Justin Crosby and Tiffany Crosby on behalf of Parker Anthony Crosby, Fort Knox, Kentucky, Court of Federal Claims No: 12-0502V.

1456. Diane M. Chadwick, Timonium, Maryland, Court of Federal Claims No: 12-0505V.

1457. Laudze Elizabeth Gachette, Miami, Florida, Court of Federal Claims No: 12-0506V.

1458. Jessica Kellner, Mendon, New York, Court of Federal Claims No: 12-0510V.

1459. Ann Marie Rivera, Bronx, New York, Court of Federal Claims No: 12-0511V.

1460. Autumn Laidlaw on behalf of Emily Stone, Norway, Maine, Court of Federal Claims No: 12-0512V.

1461. Robert Boyer and Pamela Boyer on behalf of Allison Boyer, Chico, California, Court of Federal Claims No: 12-0517V.

1462. David Bishop and Deborah Bishop on behalf of Elizabeth Bishop, Alpharetta, Georgia, Court of Federal Claims No: 12-0523V.

1463. Deborah Grenon, North Smithfield, Rhode Island, Court of Federal Claims No: 12-0528V.

1464. Roberto Sanchez, Denver, Colorado, Court of Federal Claims No: 12-0532V.

1465. Mark F. Wyvratt, Allegany, Pennsylvania, Court of Federal Claims No: 12-0533V.

1466. Tyrelle Cating, Houston, Texas, Court of Federal Claims No: 12-0535V.

1467. Karen L. Kennedy, Shawnee Hills, Ohio, Court of Federal Claims No: 12-0537V.

1468. Norman Klegon, Las Vegas, Nevada, Court of Federal Claims No: 12-0538V.

1469. Wayne Strahan, Brandon, Florida, Court of Federal Claims No: 12-0542V.

1470. Brett Byler, San Diego, California, Court of Federal Claims No: 12-0544V.

1471. Alma Joan Coker on behalf of George Ellis Coker, New Orleans, Louisiana, Court of Federal Claims No: 12-0545V.

1472. Erin Heath, Medford, Oregon, Court of Federal Claims No: 12-0547V.

1473. Jacqueline Brand, Westboro, Massachusetts, Court of Federal Claims No: 12-0549V.

1474. Kerri Williams, St. Louis, Missouri, Court of Federal Claims No: 12-0550V.

1475. Nathaniel Ladue on behalf of Bryce Ladue, Indianapolis, Indiana, Court of Federal Claims No: 12-0553V.

1476. Rosemary Huber, Bohemia, New York, Court of Federal Claims No: 12-0555V.

1477. David Pokorny, Susanville, California, Court of Federal Claims No: 12-0556V.

1478. Amber Martinez, Mason, Ohio, Court of Federal Claims No: 12-0557V.

1479. Paul Soltero and Jennifer Soltero on behalf of A. O. S., Canyon County, California, Court of Federal Claims No: 12-0558V.

1480. Shawn Mark Lambert and Courtney Klein on behalf of Noah Lambert, Deceased, Jacksonville, Florida, Court of Federal Claims No: 12-0560V.

1481. Joycelyn Allen, Gulfport, Mississippi, Court of Federal Claims No: 12-0562V.

1482. Jesus Aguayo, San Leandro, California, Court of Federal Claims No: 12-0563V.

1483. Walter Cairnes, Belmont, North Carolina, Court of Federal Claims No: 12-0565V.

1484. Mania Harmitt, Teaneck, New Jersey, Court of Federal Claims No: 12-0566V.

1485. Tom Martin, Cleveland, Ohio, Court of Federal Claims No: 12-0568V.

1486. Evelyn Allen, Texarkana, Texas, Court of Federal Claims No: 12-0569V.

1487. Mark Deneen, St. Paul, Minnesota, Court of Federal Claims No: 12-0570V.

1488. Terri Laster on behalf of Marc Laster, Deceased, Fort Hood, Texas, Court of Federal Claims No: 12-0571V.

1489. Cheryl Grant, Welford, South Carolina, Court of Federal Claims No: 12-0577V.

1490. Doris Alfaro, Santa Barbara, California, Court of Federal Claims No: 12-0578V.

1491. Walter Wright, Augusta, Georgia, Court of Federal Claims No: 12-0579V.

1492. Elizabeth D. Hutcheison, Henderson, Kentucky, Court of Federal Claims No: 12-0580V.

1493. Robert S. Joiner, Waycross, Georgia, Court of Federal Claims No: 12-0583V.

1494. Anthony Lettiere, Naples, Florida, Court of Federal Claims No: 12-0584V.

1495. Nicole Spaans on behalf of Jaycelin Joy Spaans, Kent, Michigan, Court of Federal Claims No: 12-0585V.

1496. Kimberly M. Perez, Baldwin Park, California, Court of Federal Claims No: 12-0587V.

1497. Stephen Salvo, Boston, Massachusetts, Court of Federal Claims No: 12-0589V.

1498. Kelly Schultz and Peter Schultz on behalf of L. S., Livingston, New Jersey, Court of Federal Claims No: 12-0590V.

1499. Wilma Reed, Boston, Massachusetts, Court of Federal Claims No: 12-0591V.

1500. Dewey Rose, Gladwin, Michigan, Court of Federal Claims No: 12-0593V.

1501. Margaret M. Gustafson, Lansing, Michigan, Court of Federal Claims No: 12-0594V.

1502. Marsolaire Antequera on behalf of John Perez, New York, New York, Court of Federal Claims No: 12-0595V.

1503. Carolyn Gooden, Anniston, Alabama, Court of Federal Claims No: 12-0596V.

1504. Hollie Truxillo, Baton Rouge, Louisiana, Court of Federal Claims No: 12-0599V.

1505. Ashli Hernandez Starkey, Baton Rouge, Louisiana, Court of Federal Claims No: 12-0600V.

1506. John Barlow, Atlanta, Georgia, Court of Federal Claims No: 12-0602V.

1507. Amanda Richardson, Rome, Georgia, Court of Federal Claims No: 12-0603V.

1508. David Frost, Atlanta, Texas, Court of Federal Claims No: 12-0610V.

1509. Gretchen Guerrero, Panorama City, California, Court of Federal Claims No: 12-0611V.

1510. Patrick Edwards and Jeannette Edwards on behalf of Adalia Edwards, Hackensack, New Jersey, Court of Federal Claims No: 12-0613V.

1511. Michael Wood, St. Francis, Wisconsin, Court of Federal Claims No: 12-0614V.

1512. Jessica Hanson, Wheaton, Illinois, Court of Federal Claims No: 12-0616V.

1513. Beatrice Sywassink, Stockton, California, Court of Federal Claims No: 12-0617V.

1514. John Tomberlin, Cedar Rapids, Iowa, Court of Federal Claims No: 12-0618V.

1515. Nancy Magnus on behalf of Jerry Mangus, Deceased, Idabel, Oklahoma, Court of Federal Claims No: 12-0620V.

1516. Regis McDonough, Pittsburgh, Pennsylvania, Court of Federal Claims No: 12-0621V.

1517. Sandra Obidinski, Seymour, Connecticut, Court of Federal Claims No: 12-0623V.

1518. Matt A. Sims on behalf of Glenda C. Morgan, Waco, Texas, Court of Federal Claims No: 12-0625V.

1519. Magnus Akerstrom and Brandi Akerstrom on behalf of Luke Akerstrom, Jacksonville, Florida, Court of Federal Claims No: 12-0629V.

1520. Laura Day on behalf of B. K. D., Martinsville, Indiana, Court of Federal Claims No: 12-0630V.

1521. Grzegorz Rus and Agnieszka Rus on behalf of Angelika Rus, Minneapolis, Minnesota, Court of Federal Claims No: 12-0631V.

1522. Charles P. Vesei, Irvine, California, Court of Federal Claims No: 12-0633V.

1523. Emma Adkins, Gainesville, Florida, Court of Federal Claims No: 12-0634V.

1524. Laura M. Stolowski, Asbury Park, New Jersey, Court of Federal Claims No: 12-0635V.

1525. Clarice Nordin on behalf of Richard Nordin, Deceased, St. Paul, Minnesota, Court of Federal Claims No: 12-0636V.

1526. Jaleh Welby (also known as Jeleh Welby), Santa Clara, California, Court of Federal Claims No: 12-0643V.

1527. Charles Wealand, Ormond Beach, Florida, Court of Federal Claims No: 12-0644V.

1528. Victoria L. Jones on behalf of William R. Jones, Dallas, Texas, Court of Federal Claims No: 12-0653V.

1529. Nancy May, Dallas, Texas, Court of Federal Claims No: 12-0655V.

1530. Alice Parker, Tulsa, Oklahoma, Court of Federal Claims No: 12-0658V.

1531. Robert Prevette, Goldsboro, Maryland, Court of Federal Claims No: 12-0662V.

1532. Susie Gonzalez, San Antonio, Texas, Court of Federal Claims No: 12-0664V.

1533. James MacDougall, Jr., Boston, Massachusetts, Court of Federal Claims No: 12-0665V.

1534. Gwendolyn Murphy, Boston, Massachusetts, Court of Federal Claims No: 12-0666V.

1535. Patricia Pernal, Southington, Connecticut, Court of Federal Claims No: 12-0667V.

1536. Stacie Fuller, West Jordan, Utah, Court of Federal Claims No: 12-0668V.

1537. Graham Roberts, Denver, Colorado, Court of Federal Claims No: 12-0669V.

1538. Rodney Speed, Sr., Naples, Florida, Court of Federal Claims No: 12-0671V.

1539. Kathleen J. Auch, Yankton, South Dakota, Court of Federal Claims No: 12-0673V.

1540. Jennifer E. Sagi, Buffalo, New York, Court of Federal Claims No: 12-0674V.

1541. Paul S. Heckle, Ontario, New York, Court of Federal Claims No: 12-0675V.

1542. Mark A. Lynch and Yosimi Lynch on behalf of Reona Dakota Lynch, Washington, District of Columbia, Court of Federal Claims No: 12-0676V.

1543. Michael Long, Bay Pines, Florida, Court of Federal Claims No: 12-0679V.

1544. Debra Berland, Franklin, Wisconsin, Court of Federal Claims No: 12-0680V.

1545. Greg McCants, Hartsville, South Carolina, Court of Federal Claims No: 12-0682V.

1546. David Black, Boston, Massachusetts, Court of Federal Claims No: 12-0685V.

1547. Carol Orsinger, Harrisburg, Pennsylvania, Court of Federal Claims No: 12-0686V.

1548. Diana Dobbs, New Orleans, Louisiana, Court of Federal Claims No: 12-0688V.

1549. Amanda Guerrero, Irvine, California, Court of Federal Claims No: 12-0689V.

1550. Stephanie Hinton on behalf of Jeffrey O'Brien, Fort Wayne, Indiana, Court of Federal Claims No: 12-0691V.

1551. Ivan Corpacian, Sunnyvale, California, Court of Federal Claims No: 12-0692V.

1552. Thomas Carcone, Dallas, Texas, Court of Federal Claims No: 12-0695V.

1553. April M. Justice, Knoxville, Tennessee, Court of Federal Claims No: 12-0696V.

1554. Linda Waye, McDonough, Georgia, Court of Federal Claims No: 12-0698V.

1555. Diane Zglenski, Phoenixville, Pennsylvania, Court of Federal Claims No: 12-0701V.

1556. James Reeves on behalf of B. E. R., Mt. Orab, Ohio, Court of Federal Claims No: 12-0702V.

1557. Ana Ortega, Brooklyn, New York, Court of Federal Claims No: 12-0703V.

1558. Christopher Leumas, Sarasota, Florida, Court of Federal Claims No: 12-0704V.

1559. Erica Evans, M.D., Mooresville, North Carolina, Court of Federal Claims No: 12-0706V.

1560. Cynthia S. Smith, Somers Point, New Jersey, Court of Federal Claims No: 12-0709V.

1561. Pat Wambach and Kate Wambach on behalf of Karly Wambach, Scottsdale, Arizona, Court of Federal Claims No: 12-0710V.

1562. Steve May and Linda May on behalf of Laura May, Memphis, Tennessee, Court of Federal Claims No: 12-0712V.

1563. Brian Wojciechowski, Franklin, Wisconsin, Court of Federal Claims No: 12-0713V.

1564. Nathan Tate, Albuquerque, New Mexico, Court of Federal Claims No: 12-0714V.

1565. Sherlinda Roberts, Downers Grove, Illinois, Court of Federal Claims No: 12-0716V.

1566. Patricia Buchanan, North Ogden, Utah, Court of Federal Claims No: 12-0717V.

1567. Kimberly Meiklejohn, Wye River, Maryland, Court of Federal Claims No: 12-0719V.

1568. Kimberly Simmonds, Breese, Illinois, Court of Federal Claims No: 12-0722V.

1569. Stanley Jayne, Boca Raton, Florida, Court of Federal Claims No: 12-0725V.

1570. Kevin Mancilla Lopez, Houston, Texas, Court of Federal Claims No: 12-0729V.

1571. Pamela Sapienza and Philip Sapienza on behalf of Angelina Sapienza, Manchester, New Hampshire, Court of Federal Claims No: 12-0733V.

1572. Maureen DeMartini, Ramsey, New Jersey, Court of Federal Claims No: 12-0734V.

1573. Allison Libby, Waterville, Maine, Court of Federal Claims No: 12-0735V.

1574. Robert Slater, Napa, California, Court of Federal Claims No: 12-0736V.

1575. Lori Simpson, Fort Wayne, Indiana, Court of Federal Claims No: 12-0737V.

1576. Melissa A. Horrell, Rose Hill, North Carolina, Court of Federal Claims No: 12-0738V.

1577. Jeremiah Means, Montgomery, Alabama, Court of Federal Claims No: 12-0740V.

1578. Joyce Weremblewski, Dallas, Texas, Court of Federal Claims No: 12-0741V.

1579. Sydney Rich, Tulsa, Oklahoma, Court of Federal Claims No: 12-0742V.

1580. Andrew Linnen, Georgetown, South Carolina, Court of Federal Claims No: 12-0746V.

1581. Katelyn Lasko, Darien, Connecticut, Court of Federal Claims No: 12-0747V.

1582. Rachael Donnelly, Kalamazoo, Michigan, Court of Federal Claims No: 12-0749V.

1583. Ronald C. Konar, Mesa, Arizona, Court of Federal Claims No: 12-0750V.

1584. Carol L. Cruse, Longview, Washington, Court of Federal Claims No: 12-0751V.

1585. Deborah Morris on behalf of Peter Wallace, Deceased, Hoover, Alabama, Court of Federal Claims No: 12-0752V.

1586. Eduardo Rosas, Ozone Park, New York, Court of Federal Claims No: 12-0754V.

1587. John Wanket, Sarasota, Florida, Court of Federal Claims No: 12-0755V.

1588. Fred Brock, Phoenix, Arizona, Court of Federal Claims No: 12-0756V.

1589. Ann McClenaghan on behalf of Madeline Mackay, Deceased, Boston, Massachusetts, Court of Federal Claims No: 12-0757V.

1590. Angela Patten, Boston, Massachusetts, Court of Federal Claims No: 12-0758V.

1591. Arthur L. Fischmer, Batesville, Indiana, Court of Federal Claims No: 12-0760V.

1592. Janene Stout, Knoxville, Tennessee, Court of Federal Claims No: 12-0761V.

1593. Douglas J. Terlau, Dayton, Ohio, Court of Federal Claims No: 12-0762V.

1594. Kari Ahlum and Doug Ahlum on behalf of Talbey Ahlum, Tulsa, Oklahoma, Court of Federal Claims No: 12-0763V.

1595. Eleanor D. Hernandez, Lynchburg, Virginia, Court of Federal Claims No: 12-0766V.

1596. Patsy D. Crabtree, Cleveland, Tennessee, Court of Federal Claims No: 12-0767V.

1597. Roswell Perez, Montclair, New Jersey, Court of Federal Claims No: 12-0768V.

1598. Stephen Bundy, Buffalo, New York, Court of Federal Claims No: 12-0769V.

1599. Lisa Fox and Lester Fox on behalf of Ethan Fox, Gresham, Oregon, Court of Federal Claims No: 12-0772V.

1600. Elisa Gould and Christopher Chupp on behalf of Joseph N. Chupp, Jr., Deceased, Elkhart, Indiana, Court of Federal Claims No: 12-0775V.

1601. Jamie Lee Stewart, Bismarck, North Dakota, Court of Federal Claims No: 12-0776V.

1602. Michael Nikolajuk on behalf of Kristin Nikolajuk, Farmington Hills, Michigan, Court of Federal Claims No: 12-0793V.

1603. Stephanie Palmer, Blackfoot, Idaho, Court of Federal Claims No: 12-0802V.

1604. Esther Harriet Will, Boston, Massachusetts, Court of Federal Claims No: 12-0803V.

1605. Stephen Langlois, Canton, Massachusetts, Court of Federal Claims No: 12-0804V.

1606. Francis Rapa, Woodstown, New Jersey, Court of Federal Claims No: 12-0807V.

1607. Lori Ann Driesenga, Grand Rapids, Michigan, Court of Federal Claims No: 12-0810V.

1608. Joseph Lerro and Brittany Lerro on behalf of Joseph N. Lerro, Louisville, Kentucky, Court of Federal Claims No: 12-0812V.

1609. Christopher Caleb Haynes, San Antonio, Texas, Court of Federal Claims No: 12-0813V.

1610. Jay Vandegrift, Springhouse, Pennsylvania, Court of Federal Claims No: 12-0814V.

1611. Aurora Calderon, Albuquerque, New Mexico, Court of Federal Claims No: 12-0819V.

1612. Andrea Florian on behalf of Tyler Pittman, Ridgefield, Connecticut, Court of Federal Claims No: 12-0820V.

1613. Terry Knight, Huntington, West Virginia, Court of Federal Claims No: 12-0822V.

1614. Phyllis Barnes, St. Petersburg, Florida, Court of Federal Claims No: 12-0823V.

1615. Kornoda J. Cook, Atlanta, Georgia, Court of Federal Claims No: 12-0824V.

1616. Tara A. Gill, Baraboo, Wisconsin, Court of Federal Claims No: 12-0825V.

1617. Daniel Boyle, Chicago, Illinois, Court of Federal Claims No: 12-0827V.

1618. Delton Thomas and Cheylynn Tadio on behalf of K. T., Kamuela, Hawaii, Court of Federal Claims No: 12-0829V.

1619. Shelby Allison Haver, New Braunfels, Texas, Court of Federal Claims No: 12-0831V.

1620. Albert Roscoe Fleming, Marietta, Georgia, Court of Federal Claims No: 12-0832V.

1621. Raymond Schroeder on behalf of Anne Schroeder, Deceased, Buffalo, New York, Court of Federal Claims No: 12-0837V.

1622. Ellen Best, Tucumcari, New Mexico, Court of Federal Claims No: 12-0838V.

1623. Lisa Hendrix, Ranson, West Virginia, Court of Federal Claims No: 12-0847V.

1624. Cassandra Mularczyk on behalf of Megan M. Mularczyk, Troy, Michigan, Court of Federal Claims No: 12-0851V.

1625. Claudia Huerta and Eleazar Huerta on behalf of V. H., Mammoth, Arizona, Court of Federal Claims No: 12-0854V.

1626. Kristen England, Grand Rapids, Michigan, Court of Federal Claims No: 12-0871V.

1627. Darrell Jones and Kerri Jones on behalf of T. J., Marietta, Georgia, Court of Federal Claims No: 12-0875V.

1628. Beverly A. Bahmanyari, Woodstock, Georgia, Court of Federal Claims No: 12-0876V.

1629. Lee E. Allen, Helena, Montana, Court of Federal Claims No: 12-0877V.

1630. Richard E. Dean, Sr., Hudson, Florida, Court of Federal Claims No: 12-0878V.

1631. Janie L. Roberts, Quarryville, Pennsylvania, Court of Federal Claims No: 12-0879V.

1632. Lynn Koetje, Cadillac, Michigan, Court of Federal Claims No: 12-0884V.

1633. Sara Castro, Orlando, Florida, Court of Federal Claims No: 12-0886V.

1634. David Wallace, Virginia, Minnesota, Court of Federal Claims No: 12-0888V.

1635. Robert Kotroczo, Chicago, Illinois, Court of Federal Claims No: 12-0890V.

1636. Ray H. Baker, Jr., St. Louis, Missouri, Court of Federal Claims No: 12-0891V.

1637. Robert Wagnon, Kansas City, Missouri, Court of Federal Claims No: 12-0903V.

1638. Faith L. Macchia, St. Lucie West, Florida, Court of Federal Claims No: 12-0904V.

1639. Terry St. Pierre, Lake Placid, New York, Court of Federal Claims No: 12-0912V.

1640. Vivian Getman, Oviedo, Florida, Court of Federal Claims No: 12-0914V.

1641. Lilo Hamper, Seattle, Washington, Court of Federal Claims No: 12-0916V.

1642. Edward Pratt, Kenova, West Virginia, Court of Federal Claims No: 12-0917V.

1643. Vikkie L. Shipp, Sarasota, Florida, Court of Federal Claims No: 12-0923V.

1644. Melody Clowser, Colorado Springs, Colorado, Court of Federal Claims No: 13-0002V.

1645. Alexander Thompson, San Antonio, Texas, Court of Federal Claims No: 13-0005V.

1646. Angela Zuniga, Austin, Texas, Court of Federal Claims No: 13-0008V.

1647. Kellie Engen and Steven Engen on behalf of Kellen Engen, Phoenix, Arizona, Court of Federal Claims No: 13-0018V.

1648. Tina Dixon, Jerry Dixon, Greenville, North Carolina, Court of Federal Claims No: 13-0022V.

1649. Denise Rosenbloom on behalf of Thomas Bookey, Chicago, Illinois, Court of Federal Claims No: 13-0026V.

1650. Erin Willis, Cincinnati, Ohio, Court of Federal Claims No: 13-0027V.

1651. John Jones and Tracy Jones on behalf of P. J., Guymon, Oklahoma, Court of Federal Claims No: 13-0034V.

1652. Jacob McNorton, Fort Benning, Georgia, Court of Federal Claims No: 13-0035V.

1653. Marilyn Zolnowsky on behalf of Allison J. Bittner, Armour, South Dakota, Court of Federal Claims No: 13-0036V.

1654. Jessica Dussault on behalf of Mickayla Waterman, Lewiston, Maine, Court of Federal Claims No: 13-0044V.

1655. Fred Damaske, Wales, Wisconsin, Court of Federal Claims No: 13-0046V.

1656. Glenn Henderson, Birmingham, Alabama, Court of Federal Claims No: 13-0047V.

1657. Greg Hubler and Lynn Hubler on behalf of G. L. T., Vienna, Virginia, Court of Federal Claims No: 13-0052V.

1658. Marc Davis, Chicago, Illinois, Court of Federal Claims No: 13-0053V.

1659. Rosemary Becerra, Necedah, Wisconsin, Court of Federal Claims No: 13-0062V.

1660. Fernando Whitehead, Fayetteville, North Carolina, Court of Federal Claims No: 13-0063V.

1661. Pamela Metcalf, Boston, Massachusetts, Court of Federal Claims No: 13-0065V.

1662. Lori Simpson, Fort Wayne, Indiana, Court of Federal Claims No: 13-0068V.

1663. April Polite on behalf of L. K. T., Austell, Georgia, Court of Federal Claims No: 13-0072V.

1664. Richard Plantz, Katy, Texas, Court of Federal Claims No: 13-0073V.

1665. Delores Criswell, Wichita Falls, Texas, Court of Federal Claims No: 13-0074V.

1666. Michael Parker Rittiner, Chapel Hill, North Carolina, Court of Federal Claims No: 13-0081V.

1667. Lynnette Osorio on behalf of A. A., Worcester, Massachusetts, Court of Federal Claims No: 13-0082V.

1668. Luann Moran, Tampa, Florida, Court of Federal Claims No: 13-0084V.

1669. Rita Stauffer, Kersey, Pennsylvania, Court of Federal Claims No: 13-0093V.

1670. Richard T. Dahl, Minneapolis, Minnesota, Court of Federal Claims No: 13-0098V.

1671. Tommy D. Clark, San Diego, California, Court of Federal Claims No: 13-0099V.

1672. Audrey Hodle, Dallas, Pennsylvania, Court of Federal Claims No: 13-0104V.

1673. Sarah Behie, Allentown, Pennsylvania, Court of Federal Claims No: 13-0109V.

1674. John Driscoll, Littleton, Colorado, Court of Federal Claims No: 13-0110V.

1675. Jennifer Smith, Rio Rancho, New Mexico, Court of Federal Claims No: 13-0111V.

1676. Lisa Kelley, Muskegon, Michigan, Court of Federal Claims No: 13-0114V.

1677. Karen Stark, Philadelphia, Pennsylvania, Court of Federal Claims No: 13-0115V.

1678. Jacob Campbell, Houston, Texas, Court of Federal Claims No: 13-0121V.

1679. Andrew Rodd, White Plains, New York, Court of Federal Claims No: 13-0122V.

1680. Janis Schulman, New York, New York, Court of Federal Claims No: 13-0123V.

1681. Vilma Petroff, Los Angeles, California, Court of Federal Claims No: 13-0124V.

1682. Russell Ayscue and Laura Ayscue on behalf of William Ayscue, Kingsport, Tennessee, Court of Federal Claims No: 13-0125V.

1683. Sandra Kuserk, Upland, Pennsylvania, Court of Federal Claims No: 13-0129V.

1684. Craig A. Sigel, Shrewsbury, Massachusetts, Court of Federal Claims No: 13-0134V.

1685. Kathleen Vollmar, St. Paul, Minnesota, Court of Federal Claims No: 13-0147V.

1686. Maria Theresa Gawaran, Harbor City, California, Court of Federal Claims No: 13-0151V.

1687. Jacquelyne Estes, San Angelo, Texas, Court of Federal Claims No: 13-0160V.

1688. Ryan Kolis, Sagamore Hills, OH, Court of Federal Claims No: 13-0163V.

1689. Lorin and Blaise Forcine on behalf of William Forcine, Devon, PA, Court of Federal Claims No: 13-0167V.

1690. Anthony Todd Bowman, Sr., Raleigh, NC, Court of Federal Claims No: 13-0168V.

1691. Tiara Pullens, Cincinnati, OH, Court of Federal Claims No: 13-0173V.

1692. Barbara Hesse, Findlay, OK, Court of Federal Claims No: 13-0177V.

1693. Garrell Noah, Montgomery, AL, Court of Federal Claims No: 13-0178V.

1694. Michael E. Smith, Kettering, OH, Court of Federal Claims No: 13-0179V.

1695. Tyrone A. Prince, Jeffersonville, IN, Court of Federal Claims No: 13-0180V.

1696. Albert J. Michaels, Baraboo, WI, Court of Federal Claims No: 13-0182V.

1697. Haytor Vega and Lucia Martinez on behalf of Daniel Vega-Martinez, East Point, GA, Court of Federal Claims No: 13-0183V.

1698. Pamela Jean Pegues, Memphis, TN, Court of Federal Claims No: 13-0191V.

[FR Doc. 2013-11152 Filed 5-10-13; 8:45 am]

BILLING CODE 4165-15-P